DEPARTMENT OF STATE

[Public Notice 6456]

Office of the Chief of Protocol; Gifts to Federal Employees From Foreign Government Sources Reported to Employing Agencies in Calendar Year 2007

AGENCY: Department of State.

ACTION: Notice.

SUMMARY: The Department of State submits the following comprehensive listing of the statements which, as required by law, Federal employees filed with their employing agencies during calendar year 2007 concerning gifts received from foreign government sources. The compilation includes reports of both tangible gifts and gifts of travel or travel expenses of more than minimal value, as defined by statute. Also included are gifts received in previous years including 2 gifts in 2002, 5 gifts in 2005 and 17 gifts in 2006. These latter gifts and expenses are being reported in 2007 as the Office of the Chief of Protocol, Department of State, did not receive the relevant information to include them in earlier reports.

Publication of this listing in the Federal Register is required by Section 7342(f) of Title 5, United States Code, as added by Section 515(a)(1) of the Foreign Relations Authorization Act, Fiscal Year 1978 (Pub. L. 95-105, August 17, 1977, 91 Stat. 865).

DATES: Effective December 22, 2008.

Dated: December 5, 2008.
Patrick F. Kennedy,
Under Secretary for Management, Department of State.

Agency: Executive Office of the President
[Report of tangible gifts]
Name and title of person accepting the gift on behalf of the U.S. Government | Gift, date of acceptance on behalf of the U.S. Government, estimated value, and current disposition or location | Identity of foreign donor and government | Circumstances justifying acceptance
President | Household Item (3): crystal bowl, brown and copper quilt, and 4″ × 6″ sterling silver frame. Rec'd—11-Jan-07; Est. Value—$420.00; Location—Archives Foreign | His Majesty Sultan Haji Hassanal Bolkiah Mu'izzaddin Waddaulah, Sultan and Yang Di-Pertuan of Brunei Darussalam | Non-acceptance would cause embarrassment to donor and U.S. Government.
President | Books, hardcover (2): “Stayed Tuned,” by Joe Garner and “1,001 Reasons to Love America,” by Hubert Pedroli and Mary Tiegreen. Rec'd—11-Jan-07; Est. Value—$55.00; Location—Archives Foreign | His Majesty Sultan Haji Hassanal Bolkiah Mu'izzaddin Waddaulah, Sultan and Yang Di-Pertuan of Brunei Darussalam | Non-acceptance would cause embarrassment to donor and U.S. Government.
President | CD: “Jazz for Quiet Moments,” by Greg Howard. Rec'd—11-Jan-07; Est. Value—$15.00; Location—Archives Foreign | His Majesty Sultan Haji Hassanal Bolkiah Mu'izzaddin Waddaulah, Sultan and Yang Di-Pertuan of Brunei Darussalam | Non-acceptance would cause embarrassment to donor and U.S. Government.
President | Consumables: assorted chocolates, candies, nuts, and snacks. Rec'd—11-Jan-07; Est. Value—$481.00; Location—Handled Pursuant to Secret Service Policy | His Majesty Sultan Haji Hassanal Bolkiah Mu'izzaddin Waddaulah, Sultan and Yang Di-Pertuan of Brunei Darussalam | Non-acceptance would cause embarrassment to donor and U.S. Government.
President | Household Item: silver metal box with 4 small silver containers and silver utensil held in glass case. Rec'd—8-Sep-07; Est. Value—$400.00; Location—Archives Foreign | His Majesty Sultan Haji Hassanal Bolkiah Mu'izzaddin Waddaulah, Sultan and Yang Di-Pertuan of Brunei Darussalam | Non-acceptance would cause embarrassment to donor and U.S. Government.
President | Household Item (2): Rosenthal candleholders with El Salvador Presidential Seal. Rec'd—26-Feb-07; Est. Value—$196.00; Location—Archives Foreign | His Excellency Elias Antonio Saca Gonzalez, President of the Republic of El Salvador | Non-acceptance would cause embarrassment to donor and U.S. Government.
President | Household Item: leather jewelry box with El Salvador seal. Rec'd—26-Feb-07; Est. Value—$150.00; Location—Archives Foreign | His Excellency Elias Antonio Saca Gonzalez, President of the Republic of El Salvador | Non-acceptance would cause embarrassment to donor and U.S. Government.
President | Artwork: colorful painting of a bull; held in gold frame. Rec'd—28-Nov-07; Est. Value—$500.00; Location—Archives Foreign | His Excellency Elias Antonio Saca Gonzalez, President of the Republic of El Salvador | Non-acceptance would cause embarrassment to donor and U.S. Government.
President | Household Item: silver mosaic box with tree and grapes on center surrounded by Mother of Pearl; lined with wood. Rec'd—4-Mar-07; Est. Value— $1,400.00; Location—Archives Foreign | His Majesty King Abdullah II bin Al Hussein, King of the Hashemite Kingdom of Jordan | Non-acceptance would cause embarrassment to donor and U.S. Government.
President | Household Item: ornate Waterford crystal footed bowl with scalloped border and etched words of presentation. Rec'd—16-Mar-07; Est. Value—$350.00; Location—Archives Foreign | His Excellency Bertie Ahern, Prime Minister of Ireland | Non-acceptance would cause embarrassment to donor and U.S. Government.
President | Consumables: live Shamrocks. Rec'd—16-Mar-07; Est. Value—$5.00; Location—Handled Pursuant to Secret Service Policy | His Excellency Bertie Ahern, Prime Minister of Ireland | Non-acceptance would cause embarrassment to donor and U.S. Government.
President | Book, hardcover: “Sir Edmund Hillary: An Extraordinary Life,” by Alexa Johnston. Rec'd—20-Mar-07; Est. Value—$124.00; Location—Archives Foreign | The Right Honorable Helen Clark, Prime Minister of New Zealand | Non-acceptance would cause embarrassment to donor and U.S. Government.
President | Clothing: black Icebreaker merino wool peacoat. Rec'd—20-Mar-07; Est. Value—$250.00; Location—Archives Foreign | The Right Honorable Helen Clark, Prime Minister of New Zealand | Non-acceptance would cause embarrassment to donor and U.S. Government.
President | Athletic Equipment (2): Possum Leather True Grip Golf Gloves. Rec'd—20-Mar-07; Est. Value—$42.00; Location—Archives Foreign | The Right Honorable Helen Clark, Prime Minister of New Zealand | Non-acceptance would cause embarrassment to donor and U.S. Government.
President | Book, hardcover: “The Mosaics of Jordan,” by Michele Piccirillo. Rec'd—4-Mar-07; Est. Value—$424.00; Location—Archives Foreign | Their Majesties King Abdullah II bin Al Hussein and Queen Rania Al Abdullah of Jordan | Non-acceptance would cause embarrassment to donor and U.S. Government.
President | Household Item (9): Mother of Pearl picture frame, four vases, three wind chimes, and a candle holder; held in leather box. Rec'd—26-Dec-07; Est. Value—$425.00; Location—Archives Foreign | Their Majesties King Abdullah II bin Al Hussein and Queen Rania Al Abdullah of Jordan | Non-acceptance would cause embarrassment to donor and U.S. Government.
President | Desk Accessory: silver and enamel Conway Stewart ink pen with maroon, gold, and olive green mosaic design. Rec'd—24-Jul-07; Est. Value—$850.00; Location—Archives Foreign | Their Majesties King Abdullah II bin Al Hussein and Queen Rania Al Abdullah of Jordan | Non-acceptance would cause embarrassment to donor and U.S. Government.
President | Medallion: gold ornamental piece with the state emblem of Lithuania (Vytis: The White Knight) surrounded by ornate gold horses; mounted on a flat amber stone. Rec'd—12-Feb-07; Est. Value—$350.00; Location—Archives Foreign | His Excellency Valdas Adamkus, President of the Republic of Lithuania | Non-acceptance would cause embarrassment to donor and U.S. Government.
President | Household Item: deep blue porcelain and silver bowl. Rec'd—8-Jan-07; Est. Value—$500.00; Location—Archives Foreign | His Excellency Jose Manuel Durao Barroso, President of the Commission of the European Communities | Non-acceptance would cause embarrassment to donor and U.S. Government.
President | Household Item: sterling silver checker board cut out tray with EU symbol, designed by Cleto Munari. Rec'd—29-Apr-07; Est. Value—$350.00; Location—Archives Foreign | His Excellency Jose Manuel Durao Barroso, President of the Commission of the European Communities | Non-acceptance would cause embarrassment to donor and U.S. Government.
President | Household Item: blue lapis lazuli bowl. Rec'd—5-Aug-07; Est. Value—$3,860.00; Location—Archives Foreign | His Excellency Hamid Karzai, President of the Islamic Republic of Afghanistan | Non-acceptance would cause embarrassment to donor and U.S. Government.
President | Clothing: black and gold traditional Afghan vest with white ties. Rec'd—5-Aug-07; Est. Value—$35.00; Location—Archives Foreign | His Excellency Hamid Karzai, President of the Islamic Republic of Afghanistan | Non-acceptance would cause embarrassment to donor and U.S. Government.
President | Clothing: white traditional Afghan pants suit. Rec'd—5-Aug-07; Est. Value—$135.00; Location—Archives Foreign | His Excellency Hamid Karzai, President of the Islamic Republic of Afghanistan | Non-acceptance would cause embarrassment to donor and U.S. Government.
President | Religious Item: hand-painted icon of St. Paul; held in a wooden frame. Rec'd—23-Jul-07; Est. Value—$2,500.00; Location—Archives Foreign | His Excellency Zoran Jolevski, Ambassador Extraordinary and Plenipotentiary of the Republic of Macedonia | Non-acceptance would cause embarrassment to donor and U.S. Government.
President | Consumables: 4.4 pound box of Charbonnel et Walker chocolates. Rec'd—29-Jul-07; Est. Value—$222.00; Location—Handled Pursuant to Secret Service Policy | The Right Honorable James Gordon Brown, M.P., Prime Minister of the United Kingdom | Non-acceptance would cause embarrassment to donor and U.S. Government.
President | Book, hardcover: “Churchill: The Unexpected Hero,” by Paul Addison, inscribed by donor. Rec'd—29-Jul-07; Est. Value—$25.00; Location—Archives Foreign | The Right Honorable James Gordon Brown, M.P., Prime Minister of the United Kingdom | Non-acceptance would cause embarrassment to donor and U.S. Government.
President | Household Item: green, beige, and red plaid lambswool blanket. Rec'd—29-Jul-07; Est. Value—$95.00; Location—Archives Foreign | The Right Honorable James Gordon Brown, M.P., Prime Minister of the United Kingdom | Non-acceptance would cause embarrassment to donor and U.S. Government.
President | Religious Item: pink pearl prayer beads with attached diamond pendant. Rec'd—31-Jul-07; Est. Value—$3,500.00; Location—Archives Foreign | Abdullah bin Abd al-Aziz Al Saud, Custodian of the Two Holy Mosques, King of the Kingdom of Saudi Arabia | Non-acceptance would cause embarrassment to donor and U.S. Government.
President | Household Item: sterling silver and finished wood Hermes tray. Rec'd—11-Aug-07; Est. Value—$350.00; Location—Archives Foreign | His Excellency Nicolas Sarkozy, President of the French Republic | Non-acceptance would cause embarrassment to donor and U.S. Government.
President | Artwork: bronze statue of a horse; held in a blue leather box. Rec'd—6-Nov-07; Est. Value—$5,000.00; Location—Archives Foreign | His Excellency Nicolas Sarkozy, President of the French Republic | Non-acceptance would cause embarrassment to donor and U.S. Government.
President | Consumables: assortment of chocolates, fruits, and cookies; held in large tin. Rec'd—26-Dec-07; Est. Value—$932.00; Location—Handled Pursuant to Secret Service Policy | His Excellency Sheikh Hamad bin Jassim bin Jabir Al Thani, Prime Minister of the State of Qatar | Non-acceptance would cause embarrassment to donor and U.S. Government.
President | Household Item: small green dish. Rec'd—26-Dec-07; Est. Value—$23.00; Location—Archives Foreign | His Excellency Sheikh Hamad bin Jassim bin Jabir Al Thani, Prime Minister of the State of Qatar | Non-acceptance would cause embarrassment to donor and U.S. Government.
President | Consumables (17): boxes of an assortment of candies, fruits, chocolates, and holiday popcorn. Rec'd—14-Dec-07; Est. Value—$303.00; Location—Handled Pursuant to Secret Service Policy | His Excellency Saqr Ghobash Saeed Ghobash and Mrs. Fatima Salem, Ambassador Extraordinary and Plenipotentiary, United Arab Emirates | Non-acceptance would cause embarrassment to donor and U.S. Government.
President | Household Item (2): Gold Aves pattern plate, by Royal Crown Derby. Rec'd—14-Dec-07; Est. Value—$300.00; Location—Recipient purchased item from the General Services Administration | His Excellency Saqr Ghobash Saeed Ghobash and Mrs. Fatima Salem, Ambassador Extraordinary and Plenipotentiary, United Arab Emirates | Non-acceptance would cause embarrassment to donor and U.S. Government.
President | Holiday Item: gold-tone beaded snowflake Christmas ornament. Rec'd—14-Dec-07; Est. Value—$30.00; Location—Archives Foreign | His Excellency Saqr Ghobash Saeed Ghobash and Mrs. Fatima Salem, Ambassador Extraordinary and Plenipotentiary, United Arab Emirates | Non-acceptance would cause embarrassment to donor and U.S. Government.
President | Household (4): cream colored napkins with gold trim and beaded napkin holders. Rec'd—14-Dec-07; Est. Value—$192.00; Location—Archives Foreign | His Excellency Saqr Ghobash Saeed Ghobash and Mrs. Fatima Salem, Ambassador Extraordinary and Plenipotentiary, United Arab Emirates | Non-acceptance would cause embarrassment to donor and U.S. Government.
President | Holiday Item: gold-tone Christmas tree with crystal décor. Rec'd—14-Dec-07; Est. Value—$175.00; Location—Archives Foreign | His Excellency Saqr Ghobash Saeed Ghobash and Mrs. Fatima Salem, Ambassador Extraordinary and Plenipotentiary, United Arab Emirates | Non-acceptance would cause embarrassment to donor and U.S. Government.
President | Holiday Item: gold-tone papier-mache Santa covered in glitter, by Ino Schaller. Rec'd—14-Dec-07; Est. Value—$345.00; Location—Archives Foreign | His Excellency Saqr Ghobash Saeed Ghobash and Mrs. Fatima Salem, Ambassador Extraordinary and Plenipotentiary, United Arab Emirates | Non-acceptance would cause embarrassment to donor and U.S. Government.
President | Accessory: tan Vicuna scarf with fringe; held in wooden box; engraved. Rec'd—14-Dec-07; Est. Value—$972.00; Location—Archives Foreign | His Excellency Alan Garcia Perez, President of the Republic of Peru | Non-acceptance would cause embarrassment to donor and U.S. Government.
President | Household Item: decorative porcelain bowl with hand-painted floral designs, by Richard Ginori; held in box. Rec'd—11-Dec-07; Est. Value—$1,127.00; Location—Archives Foreign | His Excellency Giorgio Napolitano, President of the Italian Republic | Non-acceptance would cause embarrassment to donor and U.S. Government.
President | Household Item: rock crystal ashtray. Rec'd—9-Jun-07; Est. Value—$425.00; Location—Archives Foreign | His Excellency Giorgio Napolitano, President of the Italian Republic | Non-acceptance would cause embarrassment to donor and U.S. Government.
President | Collectable: gold replica of the Temple of Heaven accented with multicolored Swarovski crystals with 5 figurines of the 2008 Olympic Mascots; held in brown leather box with leather portfolio holding certificates of authenticity. Rec'd—28-Nov-07; Est. Value—$3,000.00; Location—Archives Foreign | His Excellency Yang Jiechi, Minister of Foreign Affairs of the People's Republic of China | Non-acceptance would cause embarrassment to donor and U.S. Government.
President | Collectable: Commemorative Gold and Silver Badge with the Beijing 2008 Olympic Games Mascots. Rec'd—27-Sep-07; Est. Value—$398.00; Location—Archives Foreign | His Excellency Yang Jiechi, Minister of Foreign Affairs of the People's Republic of China | Non-acceptance would cause embarrassment to donor and U.S. Government.
President | Artwork (2): abstract paintings of nature, by Mrs. Olmert. Rec'd—26-Nov-07; Est. Value—$3,000.00; Location—Archives Foreign | His Excellency Ehud Olmert, Prime Minister of Israel | Non-acceptance would cause embarrassment to donor and U.S. Government.
President | Artwork: bronze molding of a man dancing; held in a gold-tone frame. Rec'd—26-Oct-07; Est. Value—$1,200.00; Location—Archives Foreign | His Excellency Joseph Kabila, President of the Democratic Republic of the Congo | Non-acceptance would cause embarrassment to donor and U.S. Government.
President | Artwork: silver statue of a Morin Khur; engraved; held in wooden box. Rec'd—22-Oct-07; Est. Value—$400.00; Location—Archives Foreign | His Excellency N. Enkhbayar, President of Mongolia | Non-acceptance would cause embarrassment to donor and U.S. Government.
President | Clothing: royal blue cashmere jacket. Rec'd—22-Oct-07; Est. Value—$414.00; Location—Archives Foreign | His Excellency N. Enkhbayar, President of Mongolia | Non-acceptance would cause embarrassment to donor and U.S. Government.
President | Book, hardcover (in Mongolian): “Great Mongolian State.” Rec'd—22-Oct-07; Est. Value—$89.00; Location—Archives Foreign | His Excellency N. Enkhbayar, President of Mongolia | Non-acceptance would cause embarrassment to donor and U.S. Government.
President | Household Item: burgundy rug with blue, green, orange, and cream accents. Rec'd—26-Sep-07; Est. Value—$1,896.00; Location—Archives Foreign | His Excellency Gurbanguly Berdimuhammedov, President of Turkmenistan | Non-acceptance would cause embarrassment to donor and U.S. Government.
President | Book, hardcover (3): “Mount Lebanon,” by Col. Charles Henry Churchill; Volumes I-III; held in an engraved leather box. Rec'd—4-Oct-07; Est. Value—$5,760.00; Location—Archives Foreign | The Honorable Saad Hariri, Member of the National Assembly of Lebanon | Non-acceptance would cause embarrassment to donor and U.S. Government.
President | Consumable: assortment of nut pastries. Rec'd—1-Oct-07; Est. Value—$25.00; Location—Handled Pursuant to Secret Service Policy | His Excellency Jalal Talabani, President of the Republic of Iraq | Non-acceptance would cause embarrassment to donor and U.S. Government.
President | Artwork: silver-tone statue of Hammurabi's Code of Laws; held in plexiglass box. Rec'd—1-Oct-07; Est. Value—$350.00; Location—Archives Foreign | His Excellency Jalal Talabani, President of the Republic of Iraq | Non-acceptance would cause embarrassment to donor and U.S. Government.
President | Household Item: multicolor inlaid wooden box. Rec'd—1-Oct-07; Est. Value—$125.00; Location—Archives Foreign | His Excellency Jalal Talabani, President of the Republic of Iraq | Non-acceptance would cause embarrassment to donor and U.S. Government.
President | Consumables (3): gift basket with mixed fruit, a bottle of Springleaf iced tea, and a bottle of Desert Pearls Non-Alcoholic Cabernet. Rec'd—9-Sep-07; Est. Value—$67.00; Location—Handled Pursuant to Secret Service Policy | The Honorable John Howard, M.P., Prime Minister of Australia | Non-acceptance would cause embarrassment to donor and U.S. Government.
President | Accessory: black messenger bag printed with “ABAC, Third ABAC Meeting, September 2007, Sydney, Australia.” Rec'd—9-Sep-07; Est. Value—$35.00; Location—Archives Foreign | The Honorable John Howard, M.P., Prime Minister of Australia | Non-acceptance would cause embarrassment to donor and U.S. Government.
President | Clothing: brown and blue APEC Driza-Bone Riding Coat. Rec'd—9-Sep-07; Est. Value—$125.00; Location—Archives Foreign | The Honorable John Howard, M.P., Prime Minister of Australia | Non-acceptance would cause embarrassment to donor and U.S. Government.
President | Accessory: brown APEC Akubra Cattleman hat. Rec'd—9-Sep-07; Est. Value—$104.00; Location—Archives Foreign | The Honorable John Howard, M.P., Prime Minister of Australia | Non-acceptance would cause embarrassment to donor and U.S. Government.
President | Artwork (3): “Brolga,” by Tim Djandomerr; “Sheep Station: Australia,” by Pamela Griffith; “Where We Live,” by Peter Kingston. Rec'd—9-Sep-07; Est. Value—$2,250.00; Location—Archives Foreign | The Honorable John Howard, M.P., Prime Minister of Australia | Non-acceptance would cause embarrassment to donor and U.S. Government.
President | Desk Accessory: black Mont Blanc pen. Rec'd—9-Sep-07; Est. Value—$495.00; Location—Archives Foreign | The Honorable John Howard, M.P., Prime Minister of Australia | Non-acceptance would cause embarrassment to donor and U.S. Government.
President | Accessory: brown leather APEC portfolio with zipper. Rec'd—9-Sep-07; Est. Value—$500.00; Location—Archives Foreign | The Honorable John Howard, M.P., Prime Minister of Australia | Non-acceptance would cause embarrassment to donor and U.S. Government.
President | Jewelry: 18 ct gold APEC pin, by Margaret Kirkwood. Rec'd—9-Sep-07; Est. Value—$750.00; Location—Archives Foreign | The Honorable John Howard, M.P., Prime Minister of Australia | Non-acceptance would cause embarrassment to donor and U.S. Government.
President | Athletic Equipment: 6½′ Tournament Shortstroker fishing rod, by Ian Miller; inscribed. Rec'd—8-Sep-07; Est. Value—$852.00; Location—Archives Foreign | The Honorable John Howard, M.P., Prime Minister of Australia | Non-acceptance would cause embarrassment to donor and U.S. Government.
President | Collectable: gold Mariner's Astrolabe; engraved. Rec'd—17-Sep-07; Est. Value—$542.00; Location—Archives Foreign | His Excellency Jose Socrates, Prime Minister of Portugal | Non-acceptance would cause embarrassment to donor and U.S. Government.
President | Book, hardcover (2): “Encompassing the Globe: Portugal and the World in the 16th and 17th Centuries,” published by the Arthur M. Sackler Gallery. Rec'd—17-Sep-07; Est. Value—$110.00; Location—Archives Foreign | His Excellency Jose Socrates, Prime Minister of Portugal | Non-acceptance would cause embarrassment to donor and U.S. Government.
President | Book, hardcover: “One Piece of Leather: R.M. Willims: The Man and His Company,” by Rob Linn. Rec'd—6-Sep-07; Est. Value—$95.00; Location—Archives Foreign | His Excellency Major General Michael Jeffery, M.P., Governor General of Australia | Non-acceptance would cause embarrassment to donor and U.S. Government.
President | CD: “Born to Survive: The Best of Troy Cassar-Daley,” by Troy Cassar-Daley. Rec'd—6-Sep-07; Est. Value—$15.00; Location—Archives Foreign | His Excellency Major General Michael Jeffery, M.P., Governor General of Australia | Non-acceptance would cause embarrassment to donor and U.S. Government.
President | CD: “The Very Best of Slim Dusty,” by Slim Dusty. Rec'd—6-Sep-07; Est. Value—$38.00; Location—Archives Foreign | His Excellency Major General Michael Jeffery, M.P., Governor General of Australia | Non-acceptance would cause embarrassment to donor and U.S. Government.
President | CD: “Spirit of the Bush,” by Lee Kernaghan. Rec'd—6-Sep-07; Est. Value—$29.00; Location—Archives Foreign | His Excellency Major General Michael Jeffery, M.P., Governor General of Australia | Non-acceptance would cause embarrassment to donor and U.S. Government.
President | Shoe Care: R.M. Williams Shoe Shine Kit. Rec'd—6-Sep-07; Est. Value—$40.00; Location—Archives Foreign | His Excellency Major General Michael Jeffery, M.P., Governor General of Australia | Non-acceptance would cause embarrassment to donor and U.S. Government.
President | Shoes: R.M. Williams elastic sided dress boot in brown. Rec'd—6-Sep-07; Est. Value—$332.00; Location—Archives Foreign | His Excellency Major General Michael Jeffery, M.P., Governor General of Australia | Non-acceptance would cause embarrassment to donor and U.S. Government.
President | Household Item: black leather box hand-crafted from Kangaroo and Barramundi leather. Rec'd—6-Sep-07; Est. Value—$76.00; Location—Archives Foreign | The Honorable Kevin Rudd, M.P., Prime Minister of Australia | Non-acceptance would cause embarrassment to donor and U.S. Government.
President | Accessory: sterling silver R.M. Williams longhorn cufflinks. Rec'd—6-Sep-07; Est. Value—$183.00; Location—Archives Foreign | The Honorable Kevin Rudd, M.P., Prime Minister of Australia | Non-acceptance would cause embarrassment to donor and U.S. Government.
President | Book, softcover: “John Curtin: A Life,” by David Day; inscribed. Rec'd—6-Sep-07; Est. Value—$33.00; Location—Archives Foreign | The Honorable Kevin Rudd, M.P., Prime Minister of Australia | Non-acceptance would cause embarrassment to donor and U.S. Government.
President | Book, softcover: “Charm Offensive: How China's Soft Power is Transforming the World,” by Joshua Kurlantzick; inscribed. Rec'd—6-Sep-07; Est. Value—$26.00; Location—Archives Foreign | The Honorable Kevin Rudd, M.P., Prime Minister of Australia | Non-acceptance would cause embarrassment to donor and U.S. Government.
President | Accessory: kangaroo leather cardholder. Rec'd—7-Sep-07; Est. Value—$53.00; Location—Archives Foreign | The Honorable Morris Iemma, State Premier and Minister for Citizenship, Australia | Non-acceptance would cause embarrassment to donor and U.S. Government.
President | Desk Accessory: ancient red gum paperweight. Rec'd—7-Sep-07; Est. Value—$138.00; Location—Archives Foreign | The Honorable Morris Iemma, State Premier and Minister for Citizenship, Australia | Non-acceptance would cause embarrassment to donor and U.S. Government.
President | Desk Accessory: ancient red gum card box. Rec'd—7-Sep-07; Est. Value—$288.00; Location—Archives Foreign | The Honorable Morris Iemma, State Premier and Minister for Citizenship, Australia | Non-acceptance would cause embarrassment to donor and U.S. Government.
President | Desk Accessory: ancient red gum letter opener. Rec'd—7-Sep-07; Est. Value—$138.00; Location—Archives Foreign | The Honorable Morris Iemma, State Premier and Minister for Citizenship, Australia | Non-acceptance would cause embarrassment to donor and U.S. Government.
President | Desk Accessory: bronze platypus paperweight, by Mary Michelmore. Rec'd—7-Sep-07; Est. Value—$150.00; Location—Archives Foreign | The Honorable Morris Iemma, State Premier and Minister for Citizenship, Australia | Non-acceptance would cause embarrassment to donor and U.S. Government.
President | Household Item: wooden box with stainless steel and gold accents. Rec'd—20-Jul-07; Est. Value—$500.00; Location—Archives Foreign | The Right Honorable Patrick Manning, Prime Minister of The Republic of Trinidad and Tobago | Non-acceptance would cause embarrassment to donor and U.S. Government.
President | CD: “A Panorama Saga II,” by BP Renegades Steel Orchestra. Rec'd—20-Jul-07; Est. Value—$15.00; Location—Archives Foreign | The Right Honorable Patrick Manning, Prime Minister of The Republic of Trinidad and Tobago | Non-acceptance would cause embarrassment to donor and U.S. Government.
President | CD: “Exodus II: The Power and The Glory,” by various artist. Rec'd—20-Jul-07; Est. Value—$14.00; Location—Archives Foreign | The Right Honorable Patrick Manning, Prime Minister of The Republic of Trinidad and Tobago | Non-acceptance would cause embarrassment to donor and U.S. Government.
President | CD: “Lydian Steel Live,” directed by Pat Bishop. Rec'd—20-Jul-07; Est. Value—$15.00; Location—Archives Foreign | The Right Honorable Patrick Manning, Prime Minister of The Republic of Trinidad and Tobago | Non-acceptance would cause embarrassment to donor and U.S. Government.
President | Artwork: reproduction of rare map of North America; held in wooden frame. Rec'd—18-Aug-07; Est. Value—$1,500.00; Location—Archives Foreign | The Right Honorable Stephen Harper, P.C., M.P., Prime Minister of Canada | Non-acceptance would cause embarrassment to donor and U.S. Government.
President | Artwork: ornamental piece of carved wood, held in a brown matted wood frame. Rec'd—25-Jul-07; Est. Value—$520.00; Location—Archives Foreign | His Excellency Ombeni Y. Sefue, Ambassador Extraordinary and Plenipotentiary, United Republic of Tanzania | Non-acceptance would cause embarrassment to donor and U.S. Government.
President | Artwork: flat wooden carving of tribal people; matted on double canvas and held in gold-painted with green baroque frame. Rec'd—29-Jun-07; Est. Value—$100.00; Location—Archives Foreign | His Excellency Amadou Toumani Touré, President of the Republic of Mali | Non-acceptance would cause embarrassment to donor and U.S. Government.
President | Miscellaneous: black leather trunk embossed with geometrical designs and gold-plated accents. Rec'd—29-Jun-07; Est. Value—$350.00; Location—Archives Foreign | His Excellency Amadou Toumani Touré, President of the Republic of Mali | Non-acceptance would cause embarrassment to donor and U.S. Government.
President | Artwork (2): black and white drawn portraits, one of Kazimierz Pulaski and one of Tadeusz Kosciuszko; matted and held in a synthetic wood frame. Rec'd—16-Jul-07; Est. Value—$314.00; Location—Archives Foreign | His Excellency Dr. Lech Kaczynski, President of the Republic of Poland | Non-acceptance would cause embarrassment to donor and U.S. Government.
President | Book, hardcover: “Figures and Art,” by Cmielow. Rec'd—8-Jun-07; Est. Value—$83.00; Location—Archives Foreign | His Excellency Dr. Lech Kaczynski, President of the Republic of Poland | Non-acceptance would cause embarrassment to donor and U.S. Government.
President | Household Item: black porcelain Scottie dog. Rec'd—8-Jun-07; Est. Value—$74.00; Location—Archives Foreign | His Excellency Dr. Lech Kaczynski, President of the Republic of Poland | Non-acceptance would cause embarrassment to donor and U.S. Government.
President | Weapon: black and gold-tone sword. Rec'd—8-Jun-07; Est. Value—$500.00; Location—Archives Foreign | His Excellency Dr. Lech Kaczynski, President of the Republic of Poland | Non-acceptance would cause embarrassment to donor and U.S. Government.
President | Books, hardcover (2, in English and in Russian): “English Sonnets, 16th to 19th Century,” published by Moscow Raduga Publishers; and an unknown title, by unknown author. Rec'd—1-Jul-07; Est. Value—$40.00; Location—Archives Foreign | His Excellency Vladimir Putin, President of the Russian Federation | Non-acceptance would cause embarrassment to donor and U.S. Government.
President | Miscellaneous: copper and brass samovar. Rec'd—1-Jul-07; Est. Value—$300.00; Location—Archives Foreign | His Excellency Vladimir Putin, President of the Russian Federation | Non-acceptance would cause embarrassment to donor and U.S. Government.
President | Artwork: print of a painting of George Washington standing in front of the sea with words, “George Washington, Barbados. 1751,” matted and held in a gold-painted wooden frame with gold-tone presentation plate. Rec'd—21-Jun-07; Est. Value—$400.00; Location—Archives Foreign | The Right Honorable Owen S. Arthur, M.P., Prime Minister and Minister of Finance, Barbados | Non-acceptance would cause embarrassment to donor and U.S. Government.
President | Consumables (3): bottles of wine. Rec'd—11-Jun-07; Est. Value—$40.00; Location—Handled Pursuant to Secret Service Policy | His Excellency Georgi Parvanov, President of the Republic of Bulgaria | Non-acceptance would cause embarrassment to donor and U.S. Government.
President | Artwork: bronze depiction of the head of the Thracian King, Sevt III on marble base with gold-tone presentation plaque. Rec'd—11-Jun-07; Est. Value—$305.00; Location—Archives Foreign | His Excellency Georgi Parvanov, President of the Republic of Bulgaria | Non-acceptance would cause embarrassment to donor and U.S. Government.
President | Musical Instrument: electric harp with speakerphone. Rec'd—22-Jun-07; Est. Value—$4,500.00; Location—Archives Foreign | His Excellency Nguyen Minh Triet, President of the Socialist Republic of Vietnam | Non-acceptance would cause embarrassment to donor and U.S. Government.
President | Household Item: Minh Long gold plated tea set with orange accents and images of dragons; includes six tea cups, sugar and cream bowls, and tea pot. Rec'd—22-Jun-07; Est. Value—$300.00; Location—Archives Foreign | His Excellency Nguyen Minh Triet, President of the Socialist Republic of Vietnam | Non-acceptance would cause embarrassment to donor and U.S. Government.
President | Artwork: silver eagle perched on top of an engraved brick base. Rec'd—10-Jun-07; Est. Value—$926.00; Location—Archives Foreign | His Excellency Sali Berisha, Prime Minister of the Republic of Albania | Non-acceptance would cause embarrassment to donor and U.S. Government.
President | Honoraria: sterling silver with gold plate and red and black enamel Order of the National Flag Award; held on red and black ribbon; award is accompanied by a red leather portfolio with gold-tone emblem. Rec'd—10-Jun-07; Est. Value—$300.00; Location—Archives Foreign | His Excellency Alfred Moisiu, President of the Republic of Albania | Non-acceptance would cause embarrassment to donor and U.S. Government.
President | Artwork: silver clock tower replica featuring working clocks on each side. Rec'd—10-Jun-07; Est. Value—$200.00; Location—Archives Foreign | His Excellency Alfred Moisiu, President of the Republic of Albania | Non-acceptance would cause embarrassment to donor and U.S. Government.
President | Artwork: photo image of tempera on wood painting entitled, “The Spring of Life,” featuring Mary, Mother of God sitting above a fountain being used by various people; held in a gold-painted baroque wooden frame. Rec'd—10-Jun-07; Est. Value—$255.00; Location—Archives Foreign | His Excellency Alfred Moisiu, President of the Republic of Albania | Non-acceptance would cause embarrassment to donor and U.S. Government.
President | Household Item: beige porcelain Wedgewood bowl with black floral border and words, “Am I Not a Man and a Brother?” in center. Rec'd—6-Jun-07; Est. Value—$450.00; Location—Archives Foreign | The Right Honorable Tony Blair, M.P., Prime Minister of the United Kingdom | Non-acceptance would cause embarrassment to donor and U.S. Government.
President | Household Items (12): Moser crystal champagne flutes with intricate cross-cut filigree texture and wide etched and gilded 24k gold borders embossed with palmettes and acanthus scroll designs. Rec'd—5-Jun-07; Est. Value—$3,060.00; Location—Archives Foreign | His Excellency Vaclav Klaus, President of the Czech Republic | Non-acceptance would cause embarrassment to donor and U.S. Government.
President | Book, hardcover (in Czech): “Modra, Nikoli, Zelena Planeta: Co Je Ohrozeno: Klima, Nebo Svoboda?” by donor. Rec'd—5-Jun-07; Est. Value—$15.00; Location—Archives Foreign | His Excellency Vaclav Klaus, President of the Czech Republic | Non-acceptance would cause embarrassment to donor and U.S. Government.
President | Accessory: purple velvet square hat with white embroidery. Rec'd—5-Jun-07; Est. Value—$35.00; Location—Archives Foreign | His Excellency Vaclav Klaus, President of the Czech Republic | Non-acceptance would cause embarrassment to donor and U.S. Government.
President | CDs (set of 11): various titles of music by Czech musicians. Rec'd—5-Jun-07; Est. Value—$165.00; Location—Archives Foreign | His Excellency Vaclav Klaus, President of the Czech Republic | Non-acceptance would cause embarrassment to donor and U.S. Government.
President | Accessory (12): assortment of E. Marinella silk ties. Rec'd—9-Jun-07; Est. Value—$1,860.00; Location—Archives Foreign | His Excellency Silvio Berlusconi, President of the Council of Ministers of the Italian Republic | Non-acceptance would cause embarrassment to donor and U.S. Government.
President | Accessory: black Salvatore Ferragamo stamped leather tie case. Rec'd—9-Jun-07; Est. Value—$350.00; Location—Archives Foreign | His Excellency Romano Prodi, President of the Council of Ministers of the Italian Republic | Non-acceptance would cause embarrassment to donor and U.S. Government.
President | Accessory (6): assortment of Salvatore Ferragamo silk ties. Rec'd—9-Jun-07; Est. Value—$870.00; Location—Archives Foreign | His Excellency Romano Prodi, President of the Council of Ministers of the Italian Republic | Non-acceptance would cause embarrassment to donor and U.S. Government.
President | Collectable: replica of 4th Century BCE Panagiurishte gold treasure. Rec'd—11-Jun-07; Est. Value—$320.00; Location—Archives Foreign | His Excellency Sergei Stanishev, Prime Minister of the Republic of Bulgaria | Non-acceptance would cause embarrassment to donor and U.S. Government.
President | Weapon: antique silver pistol embellished with silver filigree. Rec'd—10-Jun-07; Est. Value—$1,100.00; Location—Archives Foreign | The Honorable Ismet Mavriqi, Mayor of Fushe-Kruje, Albania | Non-acceptance would cause embarrassment to donor and U.S. Government.
President | Plaque: gold-tone engraved presentation plaque; held in a blue velvet hinged box. Rec'd—10-Jun-07; Est. Value—$65.00; Location—Archives Foreign | The Honorable Ismet Mavriqi, Mayor of Fushe-Kruje, Albania | Non-acceptance would cause embarrassment to donor and U.S. Government.
President | Athletic Equipment: uSurf Wave Action Exerciser. Rec'd—3-May-07; Est. Value—$200.00; Location—Archives Foreign | His Excellency Lee Hsien Loong, Prime Minister and Minister for Finance of the Republic of Singapore | Non-acceptance would cause embarrassment to donor and U.S. Government.
President | Athletic Equipment: iGallop Core and Abs Exerciser. Rec'd—3-May-07; Est. Value—$250.00; Location—Archives Foreign | His Excellency Lee Hsien Loong, Prime Minister and Minister for Finance of the Republic of Singapore | Non-acceptance would cause embarrassment to donor and U.S. Government.
President | Ranch Equipment: Husqvarna 335Rx Brush Cutter equipped with comfort grip handles, Ergo Cruise and Smart Start and powered by an X-TORQ engine. Rec'd—16-May-07; Est. Value—$570.00; Location—Archives Foreign | His Excellency Fredrik Reinfeldt, Prime Minister of Sweden | Non-acceptance would cause embarrassment to donor and U.S. Government.
President | Household Item: sterling silver William and Son plate with three gold seals (Presidential, Royal, and star with roses) on front and personal inscription on bottom. Rec'd—7-May-07; Est. Value—$2,000.00; Location—Archives Foreign | Her Majesty Queen Elizabeth II and His Royal Highness The Prince Phillip, Duke of Edinburgh, London, United Kingdom | Non-acceptance would cause embarrassment to donor and U.S. Government.
President | Jewelry (5): silver rings with agate; held in a wooden box. Rec'd—1-May-07; Est. Value—$300.00; Location—Archives Foreign | His Excellency Ali Abdullah Saleh, President of the Republic of Yemen | Non-acceptance would cause embarrassment to donor and U.S. Government.
President | Weapon: 25″ silver sword with curved blade adorned with elaborate detailing and carnelian stones. Rec'd—1-May-07; Est. Value—$1,500.00; Location—Archives Foreign | His Excellency Ali Abdullah Saleh, President of the Republic of Yemen | Non-acceptance would cause embarrassment to donor and U.S. Government.
President | Household Item: off-white and beige ceramic vase. Rec'd—26-Apr-07; Est. Value—$350.00; Location—Archives Foreign | His Excellency Shinzo Abe, Prime Minister of Japan | Non-acceptance would cause embarrassment to donor and U.S. Government.
President | Collectable: NPB Official Game Ball baseball inscribed by donor. Rec'd—26-Apr-07; Est. Value—$400.00; Location—Archives Foreign | His Excellency Shinzo Abe, Prime Minister of Japan | Non-acceptance would cause embarrassment to donor and U.S. Government.
President | Household Item: round green ceramic plate with tribal design; matted and held in a gold-painted wooden frame. Rec'd—12-Mar-07; Est. Value—$349.00; Location—Archives Foreign | His Excellency Oscar Berger Perdomo, President of the Republic of Guatemala | Non-acceptance would cause embarrassment to donor and U.S. Government.
President | Clothing (2): guayaberas shirts, one with long-sleeves and one with short sleeves. Rec'd—9-Mar-07; Est. Value—$268.00; Location—President retained | The Honorable Patricio Patron Laviada, Governor of the State of Yucatan, Mexico | Non-acceptance would cause embarrassment to donor and U.S. Government.
President | Clothing (2): guayaberas shirts, one with long-sleeves and one with short sleeves. Rec'd—9-Mar-07; Est. Value—$268.00; Location—Archives Foreign | The Honorable Patricio Patron Laviada, Governor of the State of Yucatan, Mexico | Non-acceptance would cause embarrassment to donor and U.S. Government.
President | Artwork (in Spanish): print entitled “Museo Municipal de Bellas Artes Juan Manuel Blanes,” featuring two cowboys riding horseback through countryside. Rec'd—10-Mar-07; Est. Value—$6.00; Location—Archives Foreign | His Excellency Dr. Tabaré Vazquez, President of the Oriental Republic of Uruguay | Non-acceptance would cause embarrassment to donor and U.S. Government.
President | Books, hardcover (2, in Spanish): “Antiguas Estancias del Uruguay: Historia y Produccion,” by Ana Ines Zerbino Vanrell and Jose Victor Zerbino Vanrell and “Antiguas Estancias del Uruguay II: Historia y Produccion,” by Javier Pastoriza and Miguel Alvarez Montero in custom leather-covered box. Rec'd—10-Mar-07; Est. Value—$80.00; Location—Archives Foreign | His Excellency Dr. Tabaré Vazquez, President of the Oriental Republic of Uruguay | Non-acceptance would cause embarrassment to donor and U.S. Government.
President | Artwork: black and white drawings of different styles of boots and spurs, held in a leather portfolio. Rec'd—10-Mar-07; Est. Value—$309.00; Location—Archives Foreign | His Excellency Dr. Tabaré Vazquez, President of the Oriental Republic of Uruguay | Non-acceptance would cause embarrassment to donor and U.S. Government.
President | Accessory: pair of antique wooden and animal hide boots with fur cuffs. Rec'd—10-Mar-07; Est. Value—$400.00; Location—Archives Foreign | His Excellency Dr. Tabaré Vazquez, President of the Oriental Republic of Uruguay | Non-acceptance would cause embarrassment to donor and U.S. Government.
President | Accessory: leather and pewter chain gaucho belt with gold-tone accents. Rec'd—10-Mar-07; Est. Value—$310.00; Location—Archives Foreign | His Excellency Dr. Tabaré Vazquez, President of the Oriental Republic of Uruguay | Non-acceptance would cause embarrassment to donor and U.S. Government.
President | Clothing: black wool poncho embroidered with “G.W. Bush” and images of intertwined American and Uruguayan flags. Rec'd—10-Mar-07; Est. Value—$353.00; Location—Archives Foreign | His Excellency Dr. Tabaré Vazquez, President of the Oriental Republic of Uruguay | Non-acceptance would cause embarrassment to donor and U.S. Government.
President | Miscellaneous: gold-tone Greek wreath. Rec'd—23-Mar-07; Est. Value—$548.00; Location—Archives Foreign | Her Excellency Dora Bakoyianni, Minister of Foreign Affairs of the Hellenic Republic | Non-acceptance would cause embarrassment to donor and U.S. Government.
President | Accessory (2): Chapeus Cury black cowboy hat and Chapeus Cury brown classic hat. Rec'd—9-Mar-07; Est. Value—$765.00; Location—Archives Foreign | His Excellency Jose Serra, Governor of the State of São Paulo, Brazil | Non-acceptance would cause embarrassment to donor and U.S. Government.
President | Household Item: handmade Bani Hamida tribal wall-hanging featuring assorted shades of blue woven sheep's wool triangles strung together with blue beads and tassles; hung on a black iron sconce. Rec'd—5-Jan-07; Est. Value—$450.00; Location—Archives Foreign | His Excellency Marouf Bakhet, Prime Minister of the Hashemite Kingdom of Jordan | Non-acceptance would cause embarrassment to donor and U.S. Government.
First Lady | Jewelry: sapphire and diamond necklace, bracelet, earrings, and ring jewelry set; held in green leather box. Rec'd—23-Oct-07; Est. Value—$85,000.00; Location—Archives Foreign | The Custodian of the Two Holy Mosques King Abdullah Bin Abdul Aziz Al Saud, King of the Kingdom of Saudi Arabia | Non-acceptance would cause embarrassment to donor and U.S. Government.
First Lady | Artwork: desert scene with bedouins, camels, and tent made of gold; resting on large jasper slab; held in green leather case. Rec'd—23-Oct-07; Est. Value—$10,000.00; Location—Archives Foreign | The Custodian of the Two Holy Mosques King Abdullah Bin Abdul Aziz Al Saud, King of the Kingdom of Saudi Arabia | Non-acceptance would cause embarrassment to donor and U.S. Government.
First Lady | Accessory: purple silk Yves Saint Laurent tote bag with gold-tone handware decorated with crystals; includes an ID tag. Rec'd—17-Jan-07; Est. Value—$2,195.00; Location—Archives Foreign | Mrs. Bernadette Chirac, Spouse of the President of French Republic, Paris, France | Non-acceptance would cause embarrassment to donor and U.S. Government.
First Lady | Collectable: amethyst mineral specimen from Uruguay. Rec'd—10-Mar-07; Est. Value—$25.00; Location—Archives Foreign | Mrs. Maria Auxiliadora Delgado de Vazquez, Spouse of the President of the Oriental Republic of Uruguay, Montevideo, Uruguay | Non-acceptance would cause embarrassment to donor and U.S. Government.
First Lady | Household Item: wooden tea box with the Ceibo flower burned and painted with red, pink, and green wax colors along the leather cover. Rec'd—10-Mar-07; Est. Value—$30.00; Location—Archives Foreign | Mrs. Maria Auxiliadora Delgado de Vazquez, Spouse of the President of the Oriental Republic of Uruguay, Montevideo, Uruguay | Non-acceptance would cause embarrassment to donor and U.S. Government.
First Lady | Book, hardcover: “Colonia del Sacramento: Patrimonio Mundial, World Heritage,” published by UNESCO. Rec'd—10-Mar-07; Est. Value—$30.00; Location—Archives Foreign | Mrs. Maria Auxiliadora Delgado de Vazquez, Spouse of the President of the Oriental Republic of Uruguay, Montevideo, Uruguay | Non-acceptance would cause embarrassment to donor and U.S. Government.
First Lady | Accessory: beige wool ruana with a leather design along the back. Rec'd—10-Mar-07; Est. Value—$250.00; Location—Archives Foreign | Mrs. Maria Auxiliadora Delgado de Vazquez, Spouse of the President of the Oriental Republic of Uruguay, Montevideo, Uruguay | Non-acceptance would cause embarrassment to donor and U.S. Government.
First Lady | Flowers: floral arrangement. Rec'd—10-Mar-07; Est. Value—$40.00; Location—Handled Pursuant to Secret Service Policy | Mrs. Maria Auxiliadora Delgado de Vazquez, Spouse of the President of the Oriental Republic of Uruguay, Montevideo, Uruguay | Non-acceptance would cause embarrassment to donor and U.S. Government.
First Lady | Consumables (36): Uruguayan herbal tea-bags. Rec'd—10-Mar-07; Est. Value—$5.00; Location—Handled Pursuant to Secret Service Policy | Mrs. Maria Auxiliadora Delgado de Vazquez, Spouse of the President of the Oriental Republic of Uruguay, Montevideo, Uruguay | Non-acceptance would cause embarrassment to donor and U.S. Government.
First Lady | Jewelry: sterling silver filigree flower earrings and matching brooch; held in an off-white stone box stamped with “Yucatan” and a symbol. Rec'd—9-Mar-07; Est. Value—$203.00; Location—Archives Foreign | The Honorable Patricio Patron Laviada, Governor of the State of Yucatan, Mexico | Non-acceptance would cause embarrassment to donor and U.S. Government.
First Lady | Household Item: off-white stone box stamped with “Yucatan” and a symbol. Rec'd—9-Mar-07; Est. Value—$65.00; Location—Archives Foreign | The Honorable Patricio Patron Laviada, Governor of the State of Yucatan, Mexico | Non-acceptance would cause embarrassment to donor and U.S. Government.
First Lady | Desk Accessory: 6″ sterling silver filigree letter opener. Rec'd—9-Mar-07; Est. Value—$38.00; Location—Archives Foreign | The Honorable Patricio Patron Laviada, Governor of the State of Yucatan, Mexico | Non-acceptance would cause embarrassment to donor and U.S. Government.
First Lady | Book, hardcover: “Mexico: The Revolution and Beyond,” by Pete Hamill and photographed by Agustin Victor Casasola. Rec'd—15-May-07; Est. Value—$50.00; Location—Archives Foreign | The Honorable Arturo Sarukan, Ambassador of Mexico to the United States | Non-acceptance would cause embarrassment to donor and U.S. Government.
First Lady | Book, hardcover: “Hispanic Heritage at the Smithsonian: A Decade of Latino Initiatives,” published by the Smithsonian Latino Center. Rec'd—15-May-07; Est. Value—$30.00; Location—Archives Foreign | The Honorable Arturo Sarukan, Ambassador of Mexico to the United States | Non-acceptance would cause embarrassment to donor and U.S. Government.
First Lady | Accessory: red, black, and white Pineda Covalin shawl with large floral print silk on one side and black velvet on reverse. Rec'd—15-May-07; Est. Value—$225.00; Location—Archives Foreign | The Honorable Arturo Sarukan, Ambassador of Mexico to the United States | Non-acceptance would cause embarrassment to donor and U.S. Government.
First Lady | Houshold Item: gold clock with Royal Seal by William and Son. Rec'd—7-May-07; Est. Value—$850.00; Location—Archives Foreign | Her Majesty Queen Elizabeth II and His Royal Highness The Prince Phillip, Duke of Edinburgh, London, United Kingdom | Non-acceptance would cause embarrassment to donor and U.S. Government.
First Lady | Household Items (2): red, white, and blue handmade pillows embroidered with American flag designs; one embroidered with “Barney” and an image of Barney and one with “Beazley” and an image of Miss Beazley. Rec'd—26-Apr-07; Est. Value—$100.00; Location—Archives Foreign | Mrs. Akie Abe, Spouse of the Prime Minister of Japan | Non-acceptance would cause embarrassment to donor and U.S. Government.
First Lady | Toy: 12″ stuffed black fleece Scottie dog with beaded American flag collar. Rec'd—26-Apr-27; Est. Value—$100.00; Location—Archives Foreign | Mrs. Akie Abe, Spouse of the Prime Minister of Japan | Non-acceptance would cause embarrassment to donor and U.S. Government.
First Lady | Household Item: porcelain hinged Limoges box with ormolu trim and hand-painted images of Barney and Miss Beazley; painted by Kiyoe Seno. Rec'd—26-Apr-27; Est. Value—$700.00; Location—Archives Foreign | Mrs. Akie Abe, Spouse of the Prime Minister of Japan | Non-acceptance would cause embarrassment to donor and U.S. Government.
First Lady | Household Item: black lacquered tray with gold-tone leaf designs around the outside edge and “Laura” on bottom. Rec'd—26-Apr-07; Est. Value—$134.00; Location—Archives Foreign | Mrs. Akie Abe, Spouse of the Prime Minister of Japan | Non-acceptance would cause embarrassment to donor and U.S. Government.
First Lady | Jewelry: 3″ gold lapel pin with garnet stones. Rec'd—6-Jun-07; Est. Value—$300.00; Location—Archives Foreign | His Excellency Jiri Paroubek, Chairman of Czech Social Democratic Party, Czech Republic | Non-acceptance would cause embarrassment to donor and U.S. Government.
First Lady | Book, softcover: “Guide to Prague and Towns Across the Czech Republic.” Rec'd—6-Jun-07; Est. Value—$15.00; Location—Archives Foreign | His Excellency Jiri Paroubek, Chairman of Czech Social Democratic Party, Czech Republic | Non-acceptance would cause embarrassment to donor and U.S. Government.
First Lady | Artwork: gold and red butterfly; held in a wooden frame. Rec'd—10-Jun-07; Est. Value—$410.00; Location—Archives Foreign | The Right Honorable Nikola Gruevski, Prime Minister of the Republic of Macedonia | Non-acceptance would cause embarrassment to donor and U.S. Government.
First Lady | Accessory: black leather straw-printed Tanner Krolle handbag with signature circle and square silver-tone fastener and three pockets inside. Rec'd—9-Jun-07; Est. Value—$1,206.00; Location—Archives Foreign | Mrs. Cherie Blair, Spouse of the Prime Minister of the United Kingdom, London, United Kingdom | Non-acceptance would cause embarrassment to donor and U.S. Government.
First Lady | Holiday Item: silver menorah designed by Zelig Segal. Rec'd—19-Jun-07; Est. Value—$500.00; Location—Archives Foreign | Mrs. Aliza Olmert, Spouse of the Prime Minister of Israel | Non-acceptance would cause embarrassment to donor and U.S. Government.
First Lady | Jewelry: coral and sterling silver jewelry set with filigree accents including dangle earrings, bracelet, necklace, and ring; held in a wooden box. Rec'd—2-May-07; Est. Value—$446.00; Location—Archives Foreign | His Excellency Ali Abdullah Saleh, President of the Republic of Yemen | Non-acceptance would cause embarrassment to donor and U.S. Government.
First Lady | Jewelry: four sterling silver filigree rings two with opal stones and two with coral stones and a sterling silver lapel pin in the shape of a scabbard and sheath; held in a wooden box. Rec'd—2-May-07; Est. Value—$224.00; Location—Archives Foreign | His Excellency Ali Abdullah Saleh, President of the Republic of Yemen | Non-acceptance would cause embarrassment to donor and U.S. Government.
First Lady | Household Item: Moser crystal vase with intricate cross-cut filigree texture and gilded 24k gold borders embossed with palmettes and acanthus scroll designs. Rec'd—5-Jun-07; Est. Value—$1,150.00; Location—Archives Foreign | Mrs. Livia Klausova, Spouse of the President of the Czech Republic | Non-acceptance would cause embarrassment to donor and U.S. Government.
First Lady | Clothing: women's black calf length wool chapan with red buttons and red, pink, and gold floral design. Rec'd—5-Aug-07; Est. Value—$800.00; Location—Archives Foreign | Mrs. Shamim Jawad, Spouse of the Afghan Ambassador to the United States | Non-acceptance would cause embarrassment to donor and U.S. Government.
First Lady | Artwork: copper portrait featuring a three-dimensional elephant with handpainted African scenery, includes an engraved copper presentation plate; held in a wood frame. Rec'd—28-Jun-07; Est. Value—$300.00; Location—Archives Foreign | Mrs. Maureen Mwanawasa, Spouse of the President of the Republic of Zambia | Non-acceptance would cause embarrassment to donor and U.S. Government.
First Lady | Household Item: wooden wall clock in the shape of Africa with handpainted copper front with African scenery and three-dimensional copper elephants and Zambian-shaped copper piece. Rec'd—28-Jun-07; Est. Value—$400.00; Location—Archives Foreign | Mrs. Maureen Mwanawasa, Spouse of the President of the Republic of Zambia | Non-acceptance would cause embarrassment to donor and U.S. Government.
First Lady | Accessory (2): E. Marinella scarves; one beige and brown; one brown with colorful flowers. Rec'd—26-Jun-07; Est. Value—$490.00; Location—Archives Foreign | His Excellency Silvio Berlusconi, President of the Council of Ministers of the Italian Republic | Non-acceptance would cause embarrassment to donor and U.S. Government.
First Lady | Artwork: oil on canvas painting of wild flowers; held in a wooden frame. Rec'd—1-Jul-07; Est. Value—$350.00; Location—Archives Foreign | His Excellency Vladimir Putin, Chairman of the Government of the Russian Federation | Non-acceptance would cause embarrassment to donor and U.S. Government.
First Lady | Artwork: stone mosaic of Mrs. Bush with gold-tone presentation plate; matted and held in a gold-tone baroque frame. Rec'd—22-Jun-07; Est. Value—$800.00; Location—Archives Foreign | His Excellency Nguyen Minh Triet, President of the Socialist Republic of Vietnam | Non-acceptance would cause embarrassment to donor and U.S. Government.
First Lady | Book, softcover (in Italian): “Villa Pamphilj,” by Fiorenzo Catalli and Mauro Petrecca. Rec'd—9-Jun-07; Est. Value—$20.00; Location—Archives Foreign | Mrs. Flavia Prodi, Spouse of the President of the Council of Ministers of the Italian Republic | Non-acceptance would cause embarrassment to donor and U.S. Government.
First Lady | Accessory: black alligator leather Tod's handbag. Rec'd—9-Jun-07; Est. Value—$1,650.00; Location—Archives Foreign | Mrs. Flavia Prodi, Spouse of the President of the Council of Ministers of the Italian Republic | Non-acceptance would cause embarrassment to donor and U.S. Government.
First Lady | Household Item: sterling silver filigree footed jewelry box with silver presentation plate. Rec'd—10-Jun-07; Est. Value—$350.00; Location—Archives Foreign | Ms. Mirela Moisiu, Daughter of the President of the Republic of Albania | Non-acceptance would cause embarrassment to donor and U.S. Government.
First Lady | Books, softcover (6): “The Pyramid,” “Spring Flowers, Spring Frost,” “The Three-Arched Bridge,” “The File on H,” “The General of the Dead Army,” and “The Palace of Dreams,” by Ismail Kadare. Rec'd—10-Jun-07; Est. Value—$78.00; Location—Archives Foreign | Ms. Mirela Moisiu, Daughter of the President of the Republic of Albania | Non-acceptance would cause embarrassment to donor and U.S. Government.
First Lady | Books, hardcover (3): “Agamemnon's Daughter,” “The Successor,” and “Elegy for Kosovo,” by Ismail Kadare. Rec'd—10-Jun-07; Est. Value—$66.00; Location—Archives Foreign | Ms. Mirela Moisiu, Daughter of the President of the Republic of Albania | Non-acceptance would cause embarrassment to donor and U.S. Government.
First Lady | Jewelry: silver earrings with turquoise and cornelian stones. Rec'd—26-Sep-07; Est. Value—$120.00; Location—Archives Foreign | His Excellency Gurbanguly Berdimuhammedov, President of Turkmenistan | Non-acceptance would cause embarrassment to donor and U.S. Government.
First Lady | Jewelry: silver ring with turquoise and cornelian stones. Rec'd—26-Sep-07; Est. Value—$120.00; Location—Archives Foreign | His Excellency Gurbanguly Berdimuhammedov, President of Turkmenistan | Non-acceptance would cause embarrassment to donor and U.S. Government.
First Lady | Jewelry: silver necklace with turquoise and cornelian stones. Rec'd—26-Sep-07; Est. Value—$435.00; Location—Archives Foreign | His Excellency Gurbanguly Berdimuhammedov, President of Turkmenistan | Non-acceptance would cause embarrassment to donor and U.S. Government.
First Lady | Household Item: cobalt glass plate with sterling silver gumleaf design. Rec'd—7-Sep-07; Est. Value—$308.00; Location—Archives Foreign | The Honorable Morris Iemma, State Premier and Minister for Citizenship, Australia | Non-acceptance would cause embarrassment to donor and U.S. Government.
First Lady | Clothing: gold embroidered silk ethnic shoes with turned up toe and leather lining. Rec'd—5-Aug-07; Est. Value—$38.00; Location—Archives Foreign | His Excellency Hamid Karzai, President of the Islamic Republic of Afghanistan | Non-acceptance would cause embarrassment to donor and U.S. Government.
First Lady | Clothing: light blue two piece Kurti set; front of top is embroidered with beige silk alternating square patterns. Rec'd—5-Aug-07; Est. Value—$200.00; Location—Archives Foreign | His Excellency Hamid Karzai, President of the Islamic Republic of Afghanistan | Non-acceptance would cause embarrassment to donor and U.S. Government.
First Lady | Clothing: beige two piece Kurti set; front of top is embroidered with beige silk alternating square patterns. Rec'd—5-Aug-07; Est. Value—$200.00; Location—Archives Foreign | His Excellency Hamid Karzai, President of the Islamic Republic of Afghanistan | Non-acceptance would cause embarrassment to donor and U.S. Government.
First Lady | Clothing: purple, green, pink and beige striped Dupioni raw silk coat with purple silk lining and embroidery work on collar and cuffs. Rec'd—5-Aug-07; Est. Value—$500.00; Location—Archives Foreign | His Excellency Hamid Karzai, President of the Islamic Republic of Afghanistan | Non-acceptance would cause embarrassment to donor and U.S. Government.
First Lady | Clothing: blue cashmere sweater with silk lining. Rec'd—22-Oct-07; Est. Value—$1,000.00; Location—Archives Foreign | His Excellency N. Enkhbayar, President of Mongolia, and Mrs. O. Tsolmon | Non-acceptance would cause embarrassment to donor and U.S. Government.
First Lady | Jewelry: friendship flag brooch with jewels. Rec'd—24-Oct-07; Est. Value—$1,150.00; Location—Archives Foreign | Her Excellency Nouriya Al-Sabih, Minister of Education and Higher Education, Kuwait | Non-acceptance would cause embarrassment to donor and U.S. Government.
First Lady | Consumables: assortment of various nuts and dried fruit. Rec'd—16-Oct-07; Est. Value—$6.00; Location—Handled Pursuant to Secret Service Policy | His Holiness The Dalai Lama | Non-acceptance would cause embarrassment to donor and U.S. Government.
First Lady | Household: silver and gold Tibetan butter lamp. Rec'd—16-Oct-07; Est. Value—$750.00; Location—Archives Foreign | His Holiness The Dalai Lama | Non-acceptance would cause embarrassment to donor and U.S. Government.
First Lady | Household Item: multi-colored hand-crafted Kurdish rug. Rec'd—5-Oct-07; Est. Value—$450.00; Location—Archives Foreign | Mrs. Hero Ibrahim Ahmed, Spouse of the President of The Republic of Iraq | Non-acceptance would cause embarrassment to donor and U.S. Government.
First Lady | Accessory: ivory, tan, and dark blue Kurdish “Khurg” bag. Rec'd—5-Oct-07; Est. Value—$75.00; Location—Archives Foreign | Mrs. Hero Ibrahim Ahmed, Spouse of the President of The Republic of Iraq | Non-acceptance would cause embarrassment to donor and U.S. Government.
First Lady | Jewelry: silver necklace with large black beads and large black pendant. Rec'd—27-Sep-07; Est. Value—$100.00; Location—Archives Foreign | Mrs. Toure Lobbo Traore, Spouse of the President of the Republic of Mali | Non-acceptance would cause embarrassment to donor and U.S. Government.
First Lady | Fabric: blue and green fabric with plastic coating. Rec'd—27-Sep-07; Est. Value—$65.00; Location—Archives Foreign | Mrs. Toure Lobbo Traore, Spouse of the President of the Republic of Mali | Non-acceptance would cause embarrassment to donor and U.S. Government.
First Lady | Fabric: orange and green fabric with plastic coating. Rec'd—27-Sep-07; Est. Value—$65.00; Location—Archives Foreign | Mrs. Toure Lobbo Traore, Spouse of the President of the Republic of Mali | Non-acceptance would cause embarrassment to donor and U.S. Government.
First Lady | Household Item: multi-colored basket with leather strap. Rec'd—27-Sep-07; Est. Value—$140.00; Location—Archives Foreign | Mrs. Toure Lobbo Traore, Spouse of the President of the Republic of Mali | Non-acceptance would cause embarrassment to donor and U.S. Government.
First Lady | Household Item: straw basket. Rec'd—27-Sep-07; Est. Value—$30.00; Location—Archives Foreign | Mrs. Toure Lobbo Traore, Spouse of the President of the Republic of Mali | Non-acceptance would cause embarrassment to donor and U.S. Government.
First Lady | Jewelry: 2″ gold brooch with coral center; held in orange leather case. Rec'd—11-Dec-07; Est. Value—$2,000.00; Location—Archives Foreign | Mrs. Clio Bittoni Napolitano, Spouse of the President of the Italian Republic | Non-acceptance would cause embarrassment to donor and U.S. Government.
First Lady | Household Item: set of 6 sterling silver wine glass charms by Asprey. Rec'd—7-Dec-07; Est. Value—$510.00; Location—Archives Foreign | Lady Catherine Meyer, Spouse of the British Ambassador to the United States | Non-acceptance would cause embarrassment to donor and U.S. Government.
First Lady | Flowers: 50 yellow roses and orchids. Rec'd—5-Nov-07; Est. Value—$400.00; Location—Handled Pursuant to Secret Service Policy | His Majesty Mohammed, King of Morocco | Non-acceptance would cause embarrassment to donor and U.S. Government.
First Lady | Consumables (30): boxes of assorted Godiva chocolate. Rec'd—5-Nov-07; Est. Value—$1,021.00; Location—Handled Pursuant to Secret Service Policy | His Majesty Mohammed, King of Morocco | Non-acceptance would cause embarrassment to donor and U.S. Government.
First Lady | Household Item: Shannon Crystal vase. Rec'd—5-Nov-07; Est. Value—$40.00; Location—Archives Foreign | His Majesty Mohammed, King of Morocco | Non-acceptance would cause embarrassment to donor and U.S. Government.
First Lady | Flowers: floral arrangement. Rec'd—19-Nov-07; Est. Value—$175.00; Location—Handled Pursuant to Secret Service Policy | Mrs. Emine Erdogan, Spouse of the Prime Minister of the Republic of Turkey | Non-acceptance would cause embarrassment to donor and U.S. Government.
First Lady | Book, hardcover: “Contemporary Turkish Painting,” by New York State University At Binghamton. Rec'd—19-Nov-07; Est. Value—$30.00; Location—Personally Retained by the First Lady | Mrs. Emine Erdogan, Spouse of the Prime Minister of the Republic of Turkey | Non-acceptance would cause embarrassment to donor and U.S. Government.
First Lady | Book, hardcover: “Sanat Koleksiyonu 1, 2 Volumes,” by Turkiye Cumhuriyet Merkez Bankasi/Central Bank of The Republic of Turkey. Rec'd—19-Nov-07; Est. Value—$300.00; Location—Archives Foreign | Mrs. Emine Erdogan, Spouse of the Prime Minister of the Republic of Turkey | Non-acceptance would cause embarrassment to donor and U.S. Government.
First Lady | Household Item: large ivory colored Persian wool rug. Rec'd—25-Oct-07; Est. Value—$2,200.00; Location—Archives Foreign | His Highness Sheikh Nawaf Al-Ahmed Al-Jaber Al Sabah, Crown Prince of the State of Kuwait | Non-acceptance would cause embarrassment to donor and U.S. Government.
First Lady | Household Item: small ivory colored Persian wool and silk rug. Rec'd—25-Oct-07; Est. Value—$1,600.00; Location—Archives Foreign | His Highness Sheikh Nawaf Al-Ahmed Al-Jaber Al Sabah, Crown Prince of the State of Kuwait | Non-acceptance would cause embarrassment to donor and U.S. Government.
First Lady | Consumables: various perfumes and incense with burner; held in a burgundy presentation box. Rec'd—25-Oct-07; Est. Value—$740.00; Location—Archives Foreign | His Highness Sheikh Nawaf Al-Ahmed Al-Jaber Al Sabah, Crown Prince of the State of Kuwait | Non-acceptance would cause embarrassment to donor and U.S. Government.
First Lady | Artwork: large sterling silver model of Al Jahili Castle resting on circular lapis base; includes sterling silver and enamel flag that attaches to top of castle; held in red leather box in wood cabinet on wheels; made by Asprey. Rec'd—22-Oct-07; Est. Value—$12,000.00; Location—Archives Foreign | Her Highness Sheikha Fatima Bint Mubarak, Chair, United Arab Emirates' Womens Association, Embassy of the United Arab Emirates | Non-acceptance would cause embarrassment to donor and U.S. Government.
First Lady | Household Item: collection of fragrance and incense with burner and lighter; held in a wooden box. Rec'd—24-Oct-07; Est. Value—$740.00; Location—Archives Foreign | His Excellency Sheikh Nasser Mohammad Al Sabah, Prime Minister of the State of Kuwait | Non-acceptance would cause embarrassment to donor and U.S. Government.
First Lady | Consumables: perfume incense set. Rec'd—24-Oct-07; Est. Value—$740.00; Location—Handled Pursuant to Secret Service Policy | The Honorable Rasha Al-Sabah, Under Secretary of Higher Education of the State of Kuwait | Non-acceptance would cause embarrassment to donor and U.S. Government.
First Lady | Clothing: gold silk robe with green, brown, and orange designs. Rec'd—24-Oct-07; Est. Value—$120.00; Location—Archives Foreign | The Honorable Rasha Al-Sabah, Under Secretary of Higher Education of the State of Kuwait | Non-acceptance would cause embarrassment to donor and U.S. Government.
First Lady | Household: crystal Baccarat wave bowl; held in red box. Rec'd—6-Nov-07; Est. Value—$6,000.00; Location—Archives Foreign | His Excellency Nicolas Sarkozy, President of the French Republic | Non-acceptance would cause embarrassment to donor and U.S. Government.
First Lady | Desk Accessory (2): small and medium desk trays with painting of three women. Rec'd—24-Sep-07; Est. Value—$125.00; Location—Archives Foreign | Mrs. Hajiya Turai Yar'adua, Spouse of the President of the Federal Republic of Nigeria | Non-acceptance would cause embarrassment to donor and U.S. Government.
First Lady | Household Item: burgundy leather chest. Rec'd—24-Sep-07; Est. Value—$85.00; Location—Archives Foreign | Mrs. Hajiya Turai Yar'adua, Spouse of the President of the Federal Republic of Nigeria | Non-acceptance would cause embarrassment to donor and U.S. Government.
First Lady | Clothing: ivory colored handmade two-piece outfit with red and green stitching; includes hat. Rec'd—24-Sep-07; Est. Value—$125.00; Location—Archives Foreign | Mrs. Hajiya Turai Yar'adua, Spouse of the President of the Federal Republic of Nigeria | Non-acceptance would cause embarrassment to donor and U.S. Government.
First Lady | Household Item: multicolored rug with fringe. Rec'd—24-Sep-07; Est. Value—$300.00; Location—Archives Foreign | Mrs. Hajiya Turai Yar'adua, Spouse of the President of the Federal Republic of Nigeria | Non-acceptance would cause embarrassment to donor and U.S. Government.
First Lady | Household Items (7): silver filigree tray with six matching decorative goblets. Rec'd—10-Jun-07; Est. Value—$1,263.00; Location—Archives Foreign | Dr. Liri Rama Berisha, Spouse of the Prime Minister of the Republic of Albania | Non-acceptance would cause embarrassment to donor and U.S. Government.
First Lady | Clothing: dark burgundy matador vest embellished with gold embroidery and tassels. Rec'd—10-Jun-07; Est. Value—$250.00; Location—Archives Foreign | Dr. Liri Rama Berisha, Spouse of the Prime Minister of the Republic of Albania | Non-acceptance would cause embarrassment to donor and U.S. Government.
First Lady | Household Items (7): light brown organza table cloth, table runner, and five napkins, each intricately embroidered with silver-tone, copper-tone and brass-tone designs, faux pearls, and metallic beads. Rec'd—10-Jun-07; Est. Value—$403.00; Location—Archives Foreign | Dr. Liri Rama Berisha, Spouse of the Prime Minister of the Republic of Albania | Non-acceptance would cause embarrassment to donor and U.S. Government.
First Lady | Artwork: silver filigree wishing well; held in a blue velvet box. Rec'd—24-Sep-07; Est. Value—$325.00; Location—Archives Foreign | Dr. Liri Rama Berisha, Spouse of the Prime Minister of the Republic of Albania | Non-acceptance would cause embarrassment to donor and U.S. Government.
First Lady | Clothing: ivory silk long-sleeved blouse embroidered with red, blue and green flowers. Rec'd—8-Jun-07; Est. Value—$150.00; Location—Archives Foreign | His Excellency Georgi Purvanov, President of the Republic of Bulgaria | Non-acceptance would cause embarrassment to donor and U.S. Government.
First Lady | Book, hardcover: “Bulgaria,” published by All Bulgarian Foundation. Rec'd—8-Jun-07; Est. Value—$148.00; Location—Archives Foreign | His Excellency Georgi Purvanov, President of the Republic of Bulgaria | Non-acceptance would cause embarrassment to donor and U.S. Government.
First Lady | Accessory: silver filigree decorative buckle. Rec'd—8-Jun-07; Est. Value—$191.00; Location—Archives Foreign | His Excellency Georgi Purvanov, President of the Republic of Bulgaria | Non-acceptance would cause embarrassment to donor and U.S. Government.
First Lady | Household Items (7): small sterling silver spoons embellished with turquoise. Rec'd—31-Mar-07; Est. Value—$350.00; Location—Archives Foreign | His Excellency Luis Inacio Lula da Silva, President of the Federative Republic of Brazil | Non-acceptance would cause embarrassment to donor and U.S. Government.
Elliot Abrams, Deputy Assistant to the President and Deputy National Security Advisor for Global Democracy Strategy | Accessory: Concord Mariner watch with black face and silver band; held in a polished wood box. Rec'd—1-Mar-07; Est. Value—$1,435.00; Location—Transferred to General Services Administration | The Custodian of the Two Holy Mosques King Abdullah Bin Abdul Aziz Al Saud, King of the Kingdom of Saudi Arabia | Non-acceptance would cause embarrassment to donor and U.S. Government.
Elliot Abrams, Deputy Assistant to the President and Deputy National Security Advisor for Global Democracy Strategy | Household Item: ornate silver box with red, white, and blue accents; held in leather red box. Rec'd—5-Mar-07; Est. Value—$750.00; Location—Transferred to General Services Administration | The Honorable Mohamed Yassine Mansouri, Director of the Directorate General of Studies and Documentation, Morocco | Non-acceptance would cause embarrassment to donor and U.S. Government.
Joshua B. Bolten, Assistant to the President and Chief of Staff | Accessory: Hanowa Swiss Military Sealander Men's Diving Watch with stainless steel case and rubber strap. Rec'd—13-Apr-07; Est. Value—$337.00; Location—Transferred to General Services Administration | His Excellency Samuel Schmid, Chief, Federal Department of Defense, Civil Protection, and Sports of the Swiss Confederation, Switzerland | Non-acceptance would cause embarrassment to donor and U.S. Government.
Joshua B. Bolten, Assistant to the President and Chief of Staff | Weapon Swiss Army Classic featuring small blade, scissors and nail file. Rec'd—13-Apr-07; Est. Value—$15.00; Location—Personally retained by the staff member | His Excellency Samuel Schmid, Chief, Federal Department of Defense, Civil Protection, and Sports of the Swiss Confederation, Switzerland | Non-acceptance would cause embarrassment to donor and U.S. Government.
Joshua B. Bolten, Assistant to the President and Chief of Staff | Accessory: navy E. Marinella tie with small red circles. Rec'd—1-Jun-07; Est. Value—$165.00; Location—Personally retained by the staff member | His Excellency Silvio Berlusconi, President of the Council of Ministers of the Italian Republic | Non-acceptance would cause embarrassment to donor and U.S. Government.
Joshua B. Bolten, Assistant to the President and Chief of Staff | Accessory: navy E. Marinella tie with small white squares. Rec'd—1-Jun-07; Est. Value—$165.00; Location—Transferred to General Services Administration | His Excellency Silvio Berlusconi, President of the Council of Ministers of the Italian Republic | Non-acceptance would cause embarrassment to donor and U.S. Government.
Bertram D. Braun, Director for Southeast Europe, National Security Council | Artwork: painting of a castle with personal inscription, by H.P. Bosaulea; held in large gold-tone frame. Rec'd—19-Dec-07; Est. Value—$450.00; Location—Transferred to General Services Administration | Her Excellency Bisera Turkovic, Ambassador of Bosnia and Herzegovina | Non-acceptance would cause embarrassment to donor and U.S. Government.
Jack D. Crouch, Assistant to the President and Deputy National Security Advisor | Household item: silver goblet with Greek National Police seal engraved on front. Rec'd—28-Mar-07; Est. Value—$500.00; Location—Transferred to General Services Administration | Mr. Anatosios Dimoschakis, Chief of the Greek National Police, Greece | Non-acceptance would cause embarrassment to donor and U.S. Government.
Stephen J. Hadley, Assistant to the President for National Security Affairs | Coin (2): silver and gold commemorative coins from the Republic of Montenegro; held in a blue case. Rec'd—4-May-07; Est. Value—$500.00; Location—Transferred to General Services Administration | His Excellency Filip Vujanovic, President of the Republic of Montenegro | Non-acceptance would cause embarrassment to donor and U.S. Government.
Stephen J. Hadley, Assistant to the President for National Security Affairs | Consumables: various chocolates, fruits, and cookies; held in large tin. Rec'd—26-Dec-07; Est. Value—$932.00; Location—Handled pursuant to Secret Service policy | His Excellency Sheikh Hamad bin Jassim bin Jabir Al Thani, Prime Minister of the State of Qatar | Non-acceptance would cause embarrassment to donor and U.S. Government.
Stephen J. Hadley, Assistant to the President for National Security Affairs | Household Item: small green dish. Rec'd—26-Dec-07; Est. Value—$23.00; Location—Transferred to General Services Administration | His Excellency Sheikh Hamad bin Jassim bin Jabir Al Thani, Prime Minister of the State of Qatar | Non-acceptance would cause embarrassment to donor and U.S. Government.
Stephen J. Hadley, Assistant to the President for National Security Affairs | Household Item: sterling silver plate with blue and red floral design on tile insert; held in a blue velvet case. Rec'd—26-Nov-07; Est. Value—$602.00; Location—Transferred to General Services Administration | His Excellency Abdullah Gul, President of the Republic of Turkey | Non-acceptance would cause embarrassment to donor and U.S. Government.
Stephen J. Hadley, Assistant to the President for National Security Affairs | Household Item: lapis lazuli box with brass interior. Rec'd—31-Oct-07; Est. Value—$485.00; Location—Transferred to General Services Administration | His Excellency Yunis Qanuni, Speaker of the Lower House of the National Assembly, Afghanistan | Non-acceptance would cause embarrassment to donor and U.S. Government.
Stephen J. Hadley, Assistant to the President for National Security Affairs | Accessory: E. Marinella blue silk tie with white accents. Rec'd—7-Jun-07; Est. Value—$165.00; Location—Transferred to General Services Administration | His Excellency Silvio Berlusconi, President of the Council of Ministers of the Italian Republic | Non-acceptance would cause embarrassment to donor and U.S. Government.
Stephen J. Hadley, Assistant to the President for National Security Affairs | Accessory (2): E. Marinella silk twill ties; one burgundy with repeating blue flowers and one navy with scattered blue and burgundy flowers. Rec'd—7-Jun-07; Est. Value—$330.00; Location—Pending Transfer to General Services Administration | His Excellency Silvio Berlusconi, President of the Council of Ministers of the Italian Republic | Non-acceptance would cause embarrassment to donor and U.S. Government.
Mary A. Haines, Deputy Executive Secretary for Scheduling and Advance | Household Item: white porcelain coffee set with gold and blue accents. Rec'd—1-Jul-07; Est. Value—$425.00; Location—Recipient purchased item from General Services Administration | Mr. Igor O. Shchegolev, Head of Protocol, Office of The President of the Russian Federation | Non-acceptance would cause embarrassment to donor and U.S. Government.
Mary A. Haines, Deputy Executive Secretary for Scheduling and Advance | Accessory: Bernard Richards quartz watch with two dials and red leather strap; held in blue case. Rec'd—6-Nov-07; Est. Value—$401.00; Location—Transferred to General Services Administration | His Excellency Nicolas Sarkozy, President of the Republic of France | Non-acceptance would cause embarrassment to donor and U.S. Government.
Emily Harding, Director for Iran, National Security Council | Accessory: sterling silver Tiffany & Co quartz watch with black leather strap. Rec'd—23-Oct-07; Est. Value—$2,800.00; Location—Transferred to General Services Administration | Abdullah bin Abd al-Aziz Al Saud, Custodian of the Two Holy Mosques and King of the Kingdom of Saudi Arabia | Non-acceptance would cause embarrassment to donor and U.S. Government.
LTG Douglas Lute, Assistant to the President and Deputy National Security Advisor for Iraq and Afghanistan | Household Item (6): lapis lazuli coasters; held in lapis holder. Rec'd—14-Aug-07; Est. Value—$385.00; Location—Transferred to General Services Administration | His Excellency Abdul Rahim Wardak, Minister of Defense of the Islamic Republic of Afghanistan | Non-acceptance would cause embarrassment to donor and U.S. Government.
Anita B. McBride, Assistant to the President and Chief of Staff to the First Lady | Accessory: sterling silver Tiffany & Co quartz watch with black leather strap. Rec'd—23-Oct-07; Est. Value—$2,800.00; Location—Recipient purchased item from General Services Administration | Abdullah bin Abd al-Aziz Al Saud, Custodian of the Two Holy Mosques and King of the Kingdom of Saudi Arabia | Non-acceptance would cause embarrassment to donor and U.S. Government.
Elizabeth M. Phu, Director of Southeast Asia, National Security Council | Household Item: sterling silver vase with floral engravings. Rec'd—19-Oct-07; Est. Value—$680.00; Location—Transferred to General Services Administration | His Excellency Tam Chien Nguyen, Ambassador of Vietnam | Non-acceptance would cause embarrassment to donor and U.S. Government.
Frances F. Townsend, Assistant to the President for Homeland Security and Counterterrorism | Desk Accessory (16): set of cream-colored greeting cards and envelopes with black and white images from Saudi Arabia on the front of each card. Rec'd—5-Feb-07; Est. Value—$48.00; Location—Transferred to General Services Administration | Princess Rima, Saudi Arabia | Non-acceptance would cause embarrassment to donor and U.S. Government.
Frances F. Townsend, Assistant to the President for Homeland Security and Counterterrorism | Consumables: sandalwood and perfume in wooden display case. Rec'd—5-Feb-07; Est. Value—$805.00; Location—Transferred to General Services Administration | Princess Rima, Saudi Arabia | Non-acceptance would cause embarrassment to donor and U.S. Government.
Frances F. Townsend, Assistant to the President for Homeland Security and Counterterrorism | Desk Accessory: gilded silver dhow with plaque reading, “Presented by H.E. Sheikh Rashid bin Abdulla Al-Khalifa, Minister of the Interior—Kingdom of Bahrain, March 2007;” held in red case. Rec'd—20-Mar-07; Est. Value—$1,500.00; Location—Transferred to General Services Administration | His Excellency Rashid bin Abdallah bin Ahmad al-Khalifa, Minister of Interior of the Kingdom of Bahrain | Non-acceptance would cause embarrassment to donor and U.S. Government.
Frances F. Townsend, Assistant to the President for Homeland Security and Counterterrorism | Household Item: Afghan rug with repeating black, brown, burgundy, and orange repeating diamond pattern with grey fringe. Rec'd—1-Feb-07; Est. Value—$800.00; Location—Pending Transfer to General Services Administration | His Excellency Hamid Karzai, President of the Islamic Republic of Afghanistan | Non-acceptance would cause embarrassment to donor and U.S. Government.
Frances F. Townsend, Assistant to the President for Homeland Security and Counterterrorism | Artwork: painting of street scene on tiles; held in a wooden frame. Rec'd—13-Jul-07; Est. Value—$475.00; Location—Transferred to General Services Administration | LTG Mohammed Medienne, Director, Department of Military Security, Ministry of National Defense, Algeria | Non-acceptance would cause embarrassment to donor and U.S. Government.
Jared Weinstein, Special Assistant to the President and Personal Aide | Household Item: lapis lazuli box with stone floral design on hinged lid; held in a blue velvet case. Rec'd—5-Sep-07; Est. Value—$420.00; Location—Transferred to General Services Administration | His Excellency Hamid Karzai, President of the Islamic Republic of Afghanistan | Non-acceptance would cause embarrassment to donor and U.S. Government.
Amy Zantzinger, Special Assistant to the Prseident and White House Social Secretary | Accessory: Bernard Richards quartz watch with two dials and red leather strap; held in blue case. Rec'd—6-Nov-07; Est. Value—$400.60; Location—Transferred to General Services Administration | His Excellency Nicolas Sarkozy, President of the Republic of France | Non-acceptance would cause embarrassment to donor and U.S. Government.

Agency: The White House, Office of the Vice President
[Report of tangible gifts]
Name and title of person accepting the gift on behalf of the U.S. Government | Gift, date of acceptance on behalf of the U.S. Government, estimated value, and current disposition or location | Identity of foreign donor and government | Circumstances justifying acceptance
Vice President | Rare book entitled The Ruins of Balbec, published in England in 1757. Rec'd—29-Oct-07; Est. Value—$5,000.00; Disposition—Archives | His Excellency Saad R. Hariri, Member of the Lebanese Parliament | Non-acceptance would cause embarrassment to donor and U.S. Government.
Vice President | Saudi artifact: fist from a sandstone sculpture believed to depict Babylonian King Naponeed from a site in Tayma Province, Saudi Arabia. Rec'd—12-May-07; Est. Value—$2,500; Disposition—Archives | The Custodian of the Two Holy Mosques King Abdullah Bin Abdul Aziz Al Saud, King of the Kingdom of Saudi Arabia | Non-acceptance would cause embarrassment to donor and U.S. Government.
Vice President | Saudi artifact: Nabatean pottery altar, inscribed in Nabatean, from the Qraya/Tayma Oasis. Rec'd—12-May-07; Est. Value—$10,000; Disposition—Archives | The Custodian of the Two Holy Mosques King Abdullah Bin Abdul Aziz Al Saud, King of the Kingdom of Saudi Arabia | Non-acceptance would cause embarrassment to donor and U.S. Government.
Vice President | Three woodblock prints from the Atachi Institute Collection. Rec'd—21-Feb-07; Est. Value—$346; Disposition—Archives | His Excellency Taro Aso, Member of the Japanese House of Representatives | Non-acceptance would cause embarrassment to donor and U.S. Government.
Vice President | Sterling silver desk set. Rec'd—4-Mar-07; Est. Value—$500; Disposition—Archives | General Yasar Buyukanit, Commander of the Turkish Armed Forces | Non-acceptance would cause embarrassment to donor and U.S. Government.
Vice President | Sterling silver plate with the seal of the Turkish General Staff. Rec'd—4-Mar-07; Est. Value—$125; Disposition—Archives | General Yasar Buyukanit, Commander of the Turkish Armed Forces | Non-acceptance would cause embarrassment to donor and U.S. Government.
Vice President | Sterling silver figurine of a Mongolian musical instrument. Rec'd—14-Nov-07; Est. Value—$275; Disposition—Archives | His Excellency Nambaryn Enkhbayar, President of Mongolia | Non-acceptance would cause embarrassment to donor and U.S. Government.
Vice President | Book—Great Mongolian State. Rec'd—14-Nov-07; Est. Value—$65; Disposition—Archives | His Excellency Nambaryn Enkhbayar, President of Mongolia | Non-acceptance would cause embarrassment to donor and U.S. Government.
Vice President | Gold and silver plate with dragon motif. Rec'd—7-Jun-07; Est. Value—$750; Disposition—Archives | His Excellency Sheng Huaren, Vice Chr. Of Standing Cmte, Chinese National People's Congress | Non-acceptance would cause embarrassment to donor and U.S. Government.
Vice President | Sterling silver box with the royal seal. Rec'd—13-Mar-07; Est. Value—$550; Disposition—Archives | His Majesty King Abdullah II bin al Hussein of the Hashemite Kingdom of Jordan | Non-acceptance would cause embarrassment to donor and U.S. Government.
Vice President | Five perfumed oils. Rec'd—21-May-07; Est. Value—$125; Location—Handled pursuant to U.S. Secret Service policy | His Excellency Yousuf Alawi Abdulla Al Ibrahim, Minister Responsible for Foreign Affairs of the Sultanate of Oman | Non-acceptance would cause embarrassment to donor and U.S. Government.
Vice President | Five gold vermeil perfume bottles. Rec'd—21-May-07; Est. Value—$2,000; Disposition—Archives | His Excellency Yousuf Alawi Abdulla Al Ibrahim, Minister Responsible for Foreign Affairs of the Sultanate of Oman | Non-acceptance would cause embarrassment to donor and U.S. Government.
Vice President | Woven wool Afghani carpet. Rec'd—6-Mar-07; Est. Value—$900; Disposition—Archives | His Excellency Hamid Karzai, President of the Islamic Republic of Afghanistan | Non-acceptance would cause embarrassment to donor and U.S. Government.
Vice President | Framed calligraphy painting. Rec'd—4-May-07; Est. Value—$650; Disposition—Archives | His Excellency Lee Hsien Loong, Prime Minister of the Republic of Singapore | Non-acceptance would cause embarrassment to donor and U.S. Government.
Vice President | Woven wool Pakistani carpet. Rec'd—27-Feb-07; Est. Value—$1,125; Disposition—Archives | His Excellency Pervez Musharraf, President of the Islamic Republic of Pakistan | Non-acceptance would cause embarrassment to donor and U.S. Government.
Vice President | Sterling silver dagger. Rec'd—2-May-07; Est. Value—$1,000; Disposition—Archives | His Excellency Ali Abdullah Saleh, President of the Republic of Yemen | Non-acceptance would cause embarrassment to donor and U.S. Government.
Vice President | Five sterling silver and agate rings. Rec'd—2-May-07; Est. Value—$250; Disposition—Archives | His Excellency Ali Abdullah Saleh, President of the Republic of Yemen | Non-acceptance would cause embarrassment to donor and U.S. Government.
Vice President | Silk prayer rug. Rec'd—22-May-07; Est. Value—$950; Disposition—Archives | Field Marshal Hussein Tantawi, Commander-in-Chief of the Egyptian Armed Forces, Minister of Defense and Military Production | Non-acceptance would cause embarrassment to donor and U.S. Government.
Vice President | Framed print of the Gavrilo Princip Bridge in Sarajevo. Rec'd—19-Dec-07; Est. Value—$450; Disposition—Archives | Her Excellency Dr. Bisera Turkovic, Ambassador of Bosnia & Herzegovina | Non-acceptance would cause embarrassment to donor and U.S. Government.
Chief of Staff to the Vice President, David Addington | Framed painting of a Bosnian street scene by H.P. Bosaulia. Rec'd—19-Dec-07; Est. Value—$350; Disposition—General Services Administration | Her Excellency Dr. Bisera Turkovic, Ambassador of Bosnia & Herzegovina | Non-acceptance would cause embarrassment to donor and U.S. Government.
Vice President | Clock trimmed in malachite, sterling silver and gold vermeil. Rec'd—11-May-07; Est. Value—$7,500; Disposition—Archives | His Highness Sheikh Mohamed bin Zayed, Crown Prince of Abu Dhabi | Non-acceptance would cause embarrassment to donor and U.S. Government.
Vice President's Staff | Twenty boxes of Medjool dates. Rec'd—11-May-07; Est. Value—$960; Location—Handled pursuant to U.S. Secret Service policy | His Highness Sheikh Mohamed bin Zayed, Crown Prince of Abu Dhabi | Non-acceptance would cause embarrassment to donor and U.S. Government.
Vice President's Staff | Twenty boxes of Middle Eastern sweets. Rec'd—11-May-07; Est. Value—$1,000; Location—Handled pursuant to U.S. Secret Service policy | His Highness Sheikh Mohamed bin Zayed, Crown Prince of Abu Dhabi | Non-acceptance would cause embarrassment to donor and U.S. Government.
Assistant to the Vice President for National Security Affairs, John Hannah | Mont Blanc Solitaire roller ball pen. Rec'd—11-Nov-07; Est. Value—$349; Disposition—General Services Administration | Minister Michel Edde, General Maronite Council, Lebanon | Non-acceptance would cause embarrassment to donor and U.S. Government.
Chief of Staff to the Vice President, David Addington | Framed print by Helen Zughaib. Rec'd—11-Jun-07; Est. Value—$450; Disposition—General Services Administration | Ms. Amal Mudallali, advisor to Saad R. Hariri, member of the Lebanese Parliament | Non-acceptance would cause embarrassment to donor and U.S. Government.
Deputy Assistant to the Vice President for National Security Affairs, Joseph Wood | Silk prayer rug. Rec'd—30-May-07; Est. Value—$1,450; Disposition—General Services Administration | His Excellency Elmar Mammadyarov, Minister of Foreign Affairs of the Republic of Azerbaijan | Non-acceptance would cause embarrassment to donor and U.S. Government.
Deputy Assistant to the Vice President for National Security Affairs, Joseph Wood | Adidas gym bag. Rec'd—30-May-07; Est. Value—$30; Disposition—General Services Administration | His Excellency Elmar Mammadyarov, Minister of Foreign Affairs of the Republic of Azerbaijan | Non-acceptance would cause embarrassment to donor and U.S. Government.
Assistant to the Vice President for National Security Affairs, John Hannah | Silk Iraqi carpet. Rec'd—27-Jan-07; Est. Value—$2,150; Disposition—General Services Administration | His Excellency Jalal Talabani, President of Iraq | Non-acceptance would cause embarrassment to donor and U.S. Government.
Special Advisor to the Vice President for National Security Affairs, Robert Karem | Silk Iraqi carpet. Rec'd—27-Jan-07; Est. Value—$2,275; Disposition—General Services Administration | His Excellency Jalal Talabani, President of Iraq | Non-acceptance would cause embarrassment to donor and U.S. Government.
Special Advisor to the Vice President for National Security Affairs, Robert Karem | Silk Iraqi carpet. Rec'd—27-Jan-07; Est. Value—$2,275; Disposition—General Services Administration | His Excellency Jalal Talabani, President of Iraq | Non-acceptance would cause embarrassment to donor and U.S. Government.

Agency: Department of State
[Report of tangible gifts]
Name and title of person accepting the gift on behalf of the U.S. Government | Gift, date of acceptance on behalf of the U.S. Government, estimated value, and current disposition or location | Identity of foreign donor and government | Circumstances justifying acceptance
The Honorable Condoleezza Rice, Secretary of State of the United States | Porcelain coffee/tea set for 6, blue design. Rec'd—June 22, 2007; Est. Value—$325.00; Location—Transferred to General Services Administration | His Excellency Nguyen Minh Triet, President of the Socialist Republic of Vietnam | Non-acceptance would cause embarrassment to donor and U.S. Government.
The Honorable Condoleezza Rice, Secretary of State of the United States | Inlaid multi-colored octagon box. Rec'd—July 18, 2007; Est. Value—$325.00; Location—Transferred to General Services Administration | Mr. M.K. Narayanan, National Security Advisor | Non-acceptance would cause embarrassment to donor and U.S. Government.
The Honorable Condoleezza Rice, Secretary of State of the United States | Gift set of 5 Olympic gold coins in plexiglass case in red box with “Beijing 2008” official licensed product. Rec'd—September 23, 2007; Est. Value—$1,200.00; Location—Transferred to General Services Administration | His Excellency Yang Jiechi, Minister of Foreign Affairs of the People's Republic of China | Non-acceptance would cause embarrassment to donor and U.S. Government.
The Honorable Condoleezza Rice, Secretary of State of the United States | Pictograms of the Beijing 2008 Olympic Games Pin Set. Rec'd—September 24, 2007; Est. Value—$460.00; Location—Transferred to General Services Administration | His Exellency Dai Bingguo, Vice Minister of Foreign Affairs of the People's Republic of China | Non-acceptance would cause embarrassment to donor and U.S. Government.
The Honorable Condoleezza Rice, Secretary of State of the United States | 1 square meter silk carpet with orange, tan, green and merlot colors patterns inside green velvet suitcase, silk on woolpile. Rec'd—September 26, 2007; Est. Value—$600.00; Location—Transferred to General Services Administration | His Excellency Gurbanguly Berdimuhammedov, President of Turkmenistan | Non-acceptance would cause embarrassment to donor and U.S. Government.
The Honorable Condoleezza Rice, Secretary of State of the United States | Large painting, floral bouquet with hands. Rec'd—April 9, 2007; Est. Value—$8,000.00; Location—Pending Transfer to General Services Administration | His Excellency Jacques-Édouard Alexis, Prime Minister of Haiti | Non-acceptance would cause embarrassment to donor and U.S. Government.
The Honorable Condoleezza Rice, Secretary of State of the United States | 1. Wooden box with inlay design; 2. Jewelry-necklace and earrings. Rec'd—January 14, 2007; Est. Value—$4,630.00; Location—Transferred to General Services Administration | His Majesty and Her Majesty King Abdullah II bin Al Hussein and Rania Al-Abdullah, King of the Hashemite Kingdom of Jordan and Queen | Non-acceptance would cause embarrassment to donor and U.S. Government.
The Honorable Condoleezza Rice, Secretary of State of the United States | Clerc silver stainless watch. Rec'd—December 20, 2006; Est. Value—$1,200.00; Location—Transferred to General Services Administration | His Highness Sheikh Tamin bin Hamad Al-Thani, Heir Apparent, Qatar | Non-acceptance would cause embarrassment to donor and U.S. Government.
The Honorable Condoleezza Rice, Secretary of State of the United States | Crystal vase—Baccarat. Rec'd—June 25, 2007; Est. Value—$420.00; Location—Transferred to General Services Administration | His Excellency Herve Morin, Minister of Defense of the French Republic | Non-acceptance would cause embarrassment to donor and U.S. Government.
The Honorable Condoleezza Rice, Secretary of State of the United States | Herme's silk scarf. Rec'd—June 24, 2007; Est. Value—$350.00; Location—Transferred to General Services Administration | His Excellency Bernard Kouchner, Minister of Foreign of the French Republic | Non-acceptance would cause embarrassment to donor and U.S. Government.
The Honorable Condoleezza Rice, Secretary of State of the United States | Gilded, ornament horn. Rec'd—February 19, 2007; Est. Value—$440.00; Location—Transferred to General Services Administration | His Excellency Igor Ivanov, Minister of Foreign Affairs of the Russian Federation | Non-acceptance would cause embarrassment to donor and U.S. Government.
The Honorable Condoleezza Rice, Secretary of State of the United States | Ruby and diamond necklace, earrings, bracelet and ring. Rec'd—July 31, 2007; Est. Value—$165,000.00; Location—Transferred to General Services Administration | The Custodian of the Two Holy Mosques King Abdullah Bin Abdul Aziz Al Saud, King of the Kingdom of Saudi Arabia | Non-acceptance would cause embarrassment to donor and U.S. Government.
The Honorable Condoleezza Rice, Secretary of State of the United States | 1. Book: Mam jalal, From a Fredom Fighter to a President with inscription from President Talabani to Secretary Rice; 2. Inlaid box, 30 X 30 cm, probably mass produced in Syria, lined with red cushioned material 3. Inlaid box, 30 X 30 cm, probably mass produced in Syria, lined with red cushioned material. Rec'd—December 18, 2007; Est. Value—$405.00; Location—Pending Transfer to General Services Administration | His Excellency Jalal Talabani, President of Iraq | Non-acceptance would cause embarrassment to donor and U.S. Government.
The Honorable Condoleezza Rice, Secretary of State of the United States | 1. Green chest with drawers filled with bags of dates; 2. 8 Bottles of Carthage brand extra virgin olive oil; 3. 6 Bottles of wine from Les Vignes de Tanit Vinyard. Rec'd—December 20, 2007; Est. Value—$450.00; Location—Pending Transfer to General Services Administration | His Excellency Zine El-Abidine Bem Ali, President of the Republic of Tunisia | Non-acceptance would cause embarrassment to donor and U.S. Government.
The Honorable Condoleezza Rice, Secretary of State of the United States | Malachite over onyx in green box and glass with black base paperweight. Rec'd—August 1, 2007; Est. Value—$510.00; Location—Transferred to General Services Administration | Prince Muqrin bin Abdul Aziz, Director of the General Intelligence Presidency of the Kingdom of Saudi Arabia | Non-acceptance would cause embarrassment to donor and U.S. Government.
The Honorable Condoleezza Rice, Secretary of State of the United States | Silver inlaid icon in wooden box and silver candleholders and candles. Rec'd—October 17, 2007; Est. Value—$560.00; Location—Transferred to General Services Administration | Theophilos, Patriach of Jerusalem, Palestinian Authority | Non-acceptance would cause embarrassment to donor and U.S. Government.
The Honorable Condoleezza Rice, Secretary of State of the United States | 14K gold pendant and chain with Ancient Roman silver coin. Rec'd—October 17, 2007; Est. Value—$540.00; Location—Pending Transfer to General Services Administration | Theophilos, Patriach of Jerusalem, Palestinian Authority | Non-acceptance would cause embarrassment to donor and U.S. Government.
The Honorable Condoleezza Rice, Secretary of State of the United States | Emerald and diamond jewelry (ring, bracelet, necklace and earrings) 19K white gold. Rec'd—January 5, 2007; Est. Value—$147,000.00; Location—Transferred to General Services Administration | His Majesty Abdullah bin Al-Hussein, King of the Hashemite Kingdom of Jordan | Non-acceptance would cause embarrassment to donor and U.S. Government.
The Honorable Condoleezza Rice, Secretary of State of the United States | Jewelry box. Rec'd—February 15, 2007; Est. Value—$345.00; Location—Transferred to General Services Administration | Mrs. Park Geun-Hye, National Assembly Member of the Republic of Korea | Non-acceptance would cause embarrassment to donor and U.S. Government.
The Honorable Condoleezza Rice, Secretary of State of the United States | Ebony elephant adorned with sterling silver and jewels. Rec'd—March 16, 2007; Est. Value—$850.00; Location—Transferred to General Services Administration | The Right Honorable Rohitha Bogollagama, M.P., Minister of Foreign Affairs of the Democratic Socialist Republic of Sri Lanka | Non-acceptance would cause embarrassment to donor and U.S. Government.
The Honorable Condoleezza Rice, Secretary of State of the United States | 1. One glass box with filigree silver palm tree and gold dates hanging from it; 2. One glass box with pewter copy of Code of Hammurabi as a stele in it. Rec'd—February 17, 2007; Est. Value—$1,140.00; Location—Transferred to General Services Administration | His Excellency Jalal Talabani, President of Iraq | Non-acceptance would cause embarrassment to donor and U.S. Government.
The Honorable Condoleezza Rice, Secretary of State of the United States | 1. Book: Czech composer Bedrick Smetana's sheet music; 2. Black and ivory-colored tea set. Rec'd—April 19, 2007; Est. Value—$400.00; Location—Transferred to General Services Administration | His Excellency Karel Schwarzenberg, Minister of Foreign Affairs of the Czech Republic | Non-acceptance would cause embarrassment to donor and U.S. Government.
The Honorable Condoleezza Rice, Secretary of State of the United States | 1. Necklace, earrings, bracelet and ring set; 2. Set of 5 rings. Rec'd—May 10, 2007; Est. Value—$405.00; Location—Transferred to General Services Administration | His Excellency Ali Abdullah Saleh, President of the Republic of Yemen | Non-acceptance would cause embarrassment to donor and U.S. Government.
The Honorable Condoleezza Rice, Secretary of State of the United States | One decorative plate with plate stand; four cloisonne boxes and one painting. Rec'd—January 3, 2006; Est. Value—$325.00; Location—Transferred to General Services Administration | Her Royal Majesty Rania Al Abdullah, Queen of the Hashemite Kingdom of Jordan | Non-acceptance would cause embarrassment to donor and U.S. Government.
The Honorable Condoleezza Rice, Secretary of State of the United States | Hermes square crystal vase 3 piece set. Rec'd—June 24, 2007; Est. Value—$345.00; Location—Transferred to General Services Administration | His Excellency Nicolas Sarkozy, President of the French Republic | Non-acceptance would cause embarrassment to donor and U.S. Government.
The Honorable Condoleezza Rice, Secretary of State of the United States | 1. Leather Bag; 2. Book: Colonia. Rec'd—March 10, 2007; Est. Value—$465.00; Location—Transferred to General Services Administration | His Excellency Celso Amorim, Minister of Foreign Affairs of the Federative Republic of Brazil | Non-acceptance would cause embarrassment to donor and U.S. Government.
The Honorable Condoleezza Rice, Secretary of State of the United States | Necklace—flower petal motif. Rec'd—November 13, 2005; Est. Value—$170,000.00; Location—Transferred to General Services Administration | The Custodian of the Two Holy Mosques King Abdullah Bin Abdul Aziz Al Saud, King of the Kingdom of Saudi Arabia | Non-acceptance would cause embarrassment to donor and U.S. Government.
Geeta Pasi | Pearl (7.0-8.5 ml off round) necklace 63″ long. Rec'd—September 1, 2007; Est. Value—$1,800.00; Location—Transferred to General Services Administration | M.G. Islam, National Intelligence Director of Bangladesh | Non-acceptance would cause embarrassment to donor and U.S. Government.
Geeta Pasi | Glass replica of the Muscat Festival 2007 Entrance Gate. Rec'd—January 1, 2007; Est. Value—$987.00; Disposition—Permission to Retain for official use only | Engineer Abdallah Bin Abbas Bin Ahmad, Mayor of Muscat Municpality | Non-acceptance would cause embarrassment to donor and U.S. Government.
Jeffrey Feltman, Deputy Principal Officer, Consulate General Jerusalem | 1. Olive tree, estimated to be over 100 years old, transplanted on the Embassy compound (Consular Building grounds); 2. Old painted door, estimated to be over 50 years old. Rec'd—March 27, 2007; Est. Value—$3,000.00; Disposition—Permission to Retain for official use only | Walid Joumblatt, Chairman of the Progressive Socialist Party | Non-acceptance would cause embarrassment to donor and U.S. Government.
John D. Negroponte, Deputy Secretary of State | Silk beige, blue and pink floor rug. Rec'd—December 7, 2007; Est. Value—$680.00; Location—Pending Transfer to General Services Administration | Lieutenant General Nadeem Taj, Director General Inter Services Intelligence, Pakistan | Non-acceptance would cause embarrassment to donor and U.S. Government.
Thomas Barnard, Regional Security Officer | Ebel men's wrist watch. Rec'd—June 7, 2007; Est. Value—$1,900.00; Location—Transferred to General Services Administration | His Excellency Al Nour Nasser Salem, Brigradier General of Jordan | Non-acceptance would cause embarrassment to donor and U.S. Government.
Thomas Barnard, Regional Security Officer | Ebel men's wrist watch. Rec'd—January 16, 2007; Est. Value—$1,900.00; Location—Transferred to General Services Administration | Colonel Matar Hamad Al Muhairy, General Director, Security Affairs and Ports, UAE | Non-acceptance would cause embarrassment to donor and U.S. Government.
Nina Behrens, Diplomatic Interpreter | Black leather and silver Tiffany & Co. wrist watch. Rec'd—October 23, 2007; Est. Value—$1,800.00; Location—Transferred to General Services Administration | The Custodian of the Two Holy Mosques King Abdullah Bin Abdul Aziz Al Saud, King of the Kingdom of Saudi Arabia | Non-acceptance would cause embarrassment to donor and U.S. Government.
Eric Donelan, Special Agent—Diplomatic Security | Woman's Movado Certa stainless steel watch. Rec'd—October 18, 2007; Est. Value—$430.00; Location—Transferred to General Services Administration | His Excellency Nassir Abdulaziz Al-Nasser, Ambassador to the United Nations | Non-acceptance would cause embarrassment to donor and U.S. Government.
Eric Donelan, Special Agent—Diplomatic Security | Clerc men's watch, stainless steel silver with blue face. Rec'd—January 13, 2007; Est. Value—$1,200.00; Location—Transferred to General Services Administration | His Excellency Nassir Abdulaziz Al-Nasser, Ambassador to the United Nations | Non-acceptance would cause embarrassment to donor and U.S. Government.
Leslie Moeller, Consular Officer | Gift set containing two types of perfume and wood. Rec'd—August 25, 2007; Est. Value—$950.00; Location—Transferred to General Services Administration | Saudi Telecommunications, Government of the Kindgom of Saudi Arabia | Non-acceptance would cause embarrassment to donor and U.S. Government.
Sheibh Hassan, Consular Officer | Gift set containing two types of perfume and wood. Rec'd—August 25, 2007; Est. Value—$950.00; Location—Transferred to General Services Administration | Saudi Telecommunications, Government of the Kindgom of Saudi Arabia | Non-acceptance would cause embarrassment to donor and U.S. Government.
Mario Boniol, Radio Tech | Gift set containing two types of perfume and wood. Rec'd—August 25, 2007; Est. Value—$950.00; Location—Transferred to General Services Administration | Saudi Telecommunications, Government of the Kindgom of Saudi Arabia | Non-acceptance would cause embarrassment to donor and U.S. Government.
Ford Fraker, Ambassador | Large desk plaque of Abha Tower and commemorating AMB visit to the city. Rec'd—December 26, 2007; Est. Value—$400.00; Location—Retained by Recipient | Dr. Mohamed Al-Mezher, Secretary General of the Kingdom of Saudi Arabia | Non-acceptance would cause embarrassment to donor and U.S. Government.
Ford Fraker, Ambassador | 1. Book: Safeya Binzagr....A Three Decade Journey with Saudi Heritage; 2. Plate with painting by Safeya Bizagr. Rec'd—May 23, 2007; Est. Value—$353.00; Location—Pending Transfer to General Services Administration | Abdullah S. Jum'ah, CEO of Aramco | Non-acceptance would cause embarrassment to donor and U.S. Government.
Ford Fraker, Ambassador | Tiffany's men watch. Rec'd—October 23, 2007; Est. Value—$3,900.00; Location—Transferred to General Services Administration | The Custodian of the Two Holy Mosques King Abdullah Bin Abdul Aziz Al Saud, King of the Kingdom of Saudi Arabia | Non-acceptance would cause embarrassment to donor and U.S. Government.
Chase Untermeyer, Ambassador | Watch, wallet, cufflinks and pen—Paco Rabanne set. Rec'd—May 31, 2007; Est. Value—$385.00; Location—Transferred to General Services Administration | General Major Hamad Al-Attiyah, Chief of Staff, Qatari Armed Forces | Non-acceptance would cause embarrassment to donor and U.S. Government.
Cecilia Elizondo Herrera, Principal Officer | Cartier Pasha platinum ballpoint pen ST220006. Rec'd—December 12, 2007; Est. Value—$590.00; Location—Transferred to General Services Administration | Baltazar Hinojosa, Mayor of the City Matamoros | Non-acceptance would cause embarrassment to donor and U.S. Government.
Sean McCormack, Assistant Secretary for Public Affairs and Spokesman | Concord LASCLA tonne wrist watch. Rec'd—March 1, 2007; Est. Value—$1,950.00; Location—Transferred to General Services Administration | The Custodian of the Two Holy Mosques King Abdullah Bin Abdul Aziz Al Saud, King of the Kingdom of Saudi Arabia | Non-acceptance would cause embarrassment to donor and U.S. Government.
Patricia Butenis, Ambassador | Gold necklace, earring set with diamond studs—18K yellow gold. Rec'd—June 7, 2007; Est. Value—$900.00; Location—Transferred to General Services Administration | Brigadier General ATM Amin, Director, Counter Terrorism Bureau, Bangladesh | Non-acceptance would cause embarrassment to donor and U.S. Government.
Eliot Cohen, Consular Officer | Rug—3 borders, 7 horseman, deers, tigers and pumas. Rec'd—July 19, 2007; Est. Value—$450.00; Location—Transferred to General Services Administration | His Excellency Aftab Ahmed Khan Sherpao, Minister of Interior of the Islamic Republic of Pakistan | Non-acceptance would cause embarrassment to donor and U.S. Government.
Mary Dubose, Staff Assistant | Portrait of President Bush, silk framed. Rec'd—May 24, 2007; Est. Value—$950.00; Location—Transferred to General Services Administration | Dr. Chan Laiwan and the China Red Sandaklwood Museum in Beijing | Non-acceptance would cause embarrassment to donor and U.S. Government.
The Honorable David Welch, Assistant Secretary of State | Concord LASCLA tonne wrist watch. Rec'd—March 1, 2007; Est. Value—$1,950.00; Location—Transferred to General Services Administration | The Custodian of the Two Holy Mosques King Abdullah Bin Abdul Aziz Al Saud, King of the Kingdom of Saudi Arabia | Non-acceptance would cause embarrassment to donor and U.S. Government.
The Honorable David Welch, Assistant Secretary of State | Concord LASCLA tonne wrist watch. Rec'd—March 1, 2007; Est. Value—$1,950.00; Location—Transferred to General Services Administration | The Custodian of the Two Holy Mosques King Abdullah Bin Abdul Aziz Al Saud, King of the Kingdom of Saudi Arabia | Non-acceptance would cause embarrassment to donor and U.S. Government.
James C. Oberwetter, U.S. Ambassador to Saudi Arabia | 1. Silver Bedouin necklace with red beads; 2. Replica of small door from Qassim area; 3. Incense kit with wood and local perfumes. Rec'd—March 10, 2007; Est. Value—$331.67; Location—Transferred to General Services Administration | Dr. Faisal Bin Abdel Karim Ali Al Khamis, Qassim Chamber of Commerce | Non-acceptance would cause embarrassment to donor and U.S. Government.
Nicholas Burns, U.S. Political Affiars | 1. Oil painting by Tihomir Lonxar; 2. Book of Loncar's art. Rec'd—May 1, 2007; Est. Value—$500.00; Disposition—Permission to Retain for official use only | His Excellency Dr. Ivo Sanader, Prime Minister of the Republic of Croatia | Non-acceptance would cause embarrassment to donor and U.S. Government.
Nicholas Burns, U.S. Political Affiars | Afghan rug. Rec'd—March 1, 2007; Est. Value—$400.00; Disposition—Permission to Retain for official use only | His Excellency Abdul Rahim Wardak, Minister of Defense of the Islamic Republic of Afghanistan | Non-acceptance would cause embarrassment to donor and U.S. Government.
Nicholas Burns, U.S. Political Affiars | Decorative Moroccan jewelry box/case. Rec'd—February 21, 2007; Est. Value—$485.00; Location—Transferred to General Services Administration | Mr. Mohamed Yassine Mansouri, Director of Moroccan Intelligence | Non-acceptance would cause embarrassment to donor and U.S. Government.
Gary Grappo, Ambassador | Amber glass horse head. Rec'd—May 1, 2006; Est. Value—$2,361.00; Disposition—Permission to Retain for official use only | Sheikh Saud Salim Bahwan, Chairman of the Saud Bahwan Group | Non-acceptance would cause embarrassment to donor and U.S. Government.
Gary Grappo, Ambassador | Khanjar. Rec'd—May 1, 2007; Est. Value—$390.00; Disposition—Permission to Retain for official use only | His Excellency Salim bin Aufit al Shanfari, Chairman of Dhofar Municipality, Sultanate of Oman | Non-acceptance would cause embarrassment to donor and U.S. Government.
Gary Grappo, Ambassador | Glass replica of the Muscat Festival 2007 Entrance Gate. Rec'd—January 1, 2007; Est. Value—$987.00; Disposition—Permission to Retain for official use only | Engineer Abdallah Bin Abbas Bin Ahmad, Mayor of Muscat Municpality | Non-acceptance would cause embarrassment to donor and U.S. Government.
Ronald E. Neumann, Ambassador | Carpet. Rec'd—February 15, 2007; Est. Value—$350.00; Disposition—Permission to Retain for official use only | Haji Elmas, Member of Parliament from Parwan Province, Afghanistan | Non-acceptance would cause embarrassment to donor and U.S. Government.
John Cloud, Ambassador | Commemorative statuette depicting bronze feather on stone base. Rec'd—July 25, 2007; Est. Value—$941.00; Disposition—Permission to Retain for official use only | His Excellency Valdas Adamkus, President of the Republic of Lithuania | Non-acceptance would cause embarrassment to donor and U.S. Government.
Benedicte Monroe, Ambassador | Necklace, earrings and ring set-yellow and white gold 104.50 grams total weight. Rec'd—July 1, 2007; Est. Value—$1,820.00; Disposition—Permission to Retain for official use only | Her Royal Highness Sheikha Sabika Bint Ibrahim Al Khalifa, Wife of the King of the Kingdom of Bahrain | Non-acceptance would cause embarrassment to donor and U.S. Government.
Elaine Neumann, Ambassador | 22K gold necklace, earring and ring set. Rec'd—February 6, 2007; Est. Value—$1,960.00; Location—Transferred to General Services Administration | Her Royal Highness Sheikha Sabika Bint Ibrahim Al Khalifa, Wife of the King of the Kingdom of Bahrain | Non-acceptance would cause embarrassment to donor and U.S. Government.

Agency: Central Intelligence Agency
[Report of tangible gifts]
Name and title of person accepting the gift on behalf of the U.S. Government | Gift, date of acceptance on behalf of the U.S. Government, estimated value, and current disposition or location | Identity of foreign donor and government | Circumstances justifying acceptance
General Michael V. Hayden, Director, Central Intelligence Agency | Silver two bottle ink stand, in a rectangular footed tray with pen groove and two hinged top ink wells centering a removable bell. Rec'd—February 2, 2007; Est. Value—$500.00; Location—To be retained for official display | 5 U.S.C. 7342(f)(4) | Non-acceptance would cause embarrassment to donor and U.S. Government.
General Michael V. Hayden, Director, Central Intelligence Agency | Single strand pearl necklace, with 14-karat white gold clasp. Rec'd—March 29, 2007; Est. Value—$500.00; Location—Pending transfer to General Services Administration. | 5 U.S.C. 7342(f)(4) | Non-acceptance would cause embarrassment to donor and U.S. Government.
General Michael V. Hayden, Director, Central Intelligence Agency | Filigree silver mounted and oval cabochon agate scabbard sword, 20th Century in a fitted case. Rec'd—May 1, 2007; Est. Value—$500.00; Location—Pending transfer to General Services Administration. | 5 U.S.C. 7342(f)(4) | Non-acceptance would cause embarrassment to donor and U.S. Government.
General Michael V. Hayden, Director, Central Intelligence Agency | 24-karat gold figure of a cow-form divinity on a wood plaque base. Rec'd—June 5, 2007; Est. Value—$1,000.00; Location—To be retained for official display | 5 U.S.C. 7342(f)(4) | Non-acceptance would cause embarrassment to donor and U.S. Government.
General Michael V. Hayden, Director, Central Intelligence Agency | 18-karat yellow gold medallion in a fitted red reptile case. Rec'd—September 28, 2007; Est. Value—$3,500.00; Location—To be retained for official display | 5 U.S.C. 7342(f)(4) | Non-acceptance would cause embarrassment to donor and U.S. Government.
General Michael V. Hayden, Director, Central Intelligence Agency | Silk rug, 9 feet by 6 feet, red ground with five vertical rows of lozenge medallions on light green and ivory ground, geometric guard border on light blue ground. Rec'd—September 28, 2007; Est. Value—$1,000.00; Location—To be retained for official display | 5 U.S.C. 7342(f)(4) | Non-acceptance would cause embarrassment to donor and U.S. Government.
General Michael V. Hayden, Director, Central Intelligence Agency | Visconti fountain pen with 14-karat white gold banded faux tortoise body in a fitted case. Rec'd—December 10, 2007; Est. Value—$500.00; Location—To be retained for official display | 5 U.S.C. 7342(f)(4) | Non-acceptance would cause embarrassment to donor and U.S. Government.
General Michael V. Hayden, Director, Central Intelligence Agency | Jeweled embossed silver round box together with a group of five silver pendants. Rec'd—January 21, 2007; Est. Value—$500.00; Location—To be retained for official display | 5 U.S.C. 7342(f)(4) | Non-acceptance would cause embarrassment to donor and U.S. Government.
Stephen J. Kappes, Deputy Director, Central Intelligence Agency | Two stainless steel gentleman's and lady's automatic water resistant wristwatches, Cartier each in a fitted gold stenciled red leather case. Rec'd—July 9, 2007; Est. Value—$3,000.00; Location—Pending transfer to General Services Administration. | 5 U.S.C. 7342(f)(4) | Non-acceptance would cause embarrassment to donor and U.S. Government.
Stephen J. Kappes, Deputy Director, Central Intelligence Agency | Bronze group of the Horse Race, sculpted as two mounted horses at the finish line, on a green verdigris partial patinated terrain base, mounted on a walnut plinth with leather belt strapping. Rec'd—April 7, 2007; Est. Value—$500.00; Location—To be retained for official display | 5 U.S.C. 7342(f)(4) | Non-acceptance would cause embarrassment to donor and U.S. Government.
Stephen J. Kappes, Deputy Director, Central Intelligence Agency | Brass mounted mother-of-pearl and bone inlaid walnut flint-lock-rifle, 19th Century, with octagonal steel barrel and walnut stock inlaid with mother-of-pearl brass and bone. Rec'd—February 2, 2007; Est. Value—$750.00; Location—To be retained for official display | 5 U.S.C. 7342(f)(4) | Non-acceptance would cause embarrassment to donor and U.S. Government.
An Agency Employee | Icon of St. George Slaying the Dragon, last quarter 19th Century, with Cyrillic inscription on reverse. Rec'd—April 29, 2005; Est. Value—$500.00; Location—To be retained for official display | 5 U.S.C. 7342(f)(4) | Non-acceptance would cause embarrassment to donor and U.S. Government.
An Agency Employee | Gentleman's stainless steel automatic chronograph wristwatch with date and calendar with a stainless steel flexible band, Longines. Rec'd—July 1, 2007; Est. Value—$700.00; Location—Pending transfer to General Services Administration | 5 U.S.C. 7342(f)(4) | Non-acceptance would cause embarrassment to donor and U.S. Government.
An Agency Employee | Gentleman's gold and stainless steel wristwatch, Rolex Oyster Perpetual Date Submariner Chronometer with a gold and stainless steel flexible band. Rec'd—July 17, 2007; Est. Value—$3,500.00; Location—Pending transfer to General Services Administration | 5 U.S.C. 7342(f)(4) | Non-acceptance would cause embarrassment to donor and U.S. Government.
An Agency Employee | Silk rug, 4 feet 10 inches by 3 feet 1 inch, navy blue ground with palmette and trellising vine field, centering a pulled star medallion on rose ground with a navy border. Rec'd—May 13, 2006; Est. Value—$500.00; Location—To be retained for official display | 5 U.S.C. 7342(f)(4) | Non-acceptance would cause embarrassment to donor and U.S. Government.
An Agency Employee | Silk rug, 4 feet 10 inches by 3 feet 2 inches, ivory ground with palmette and trellising vine field centering a pulled star medallion on light rust ground, floral spray and ivory spandrels, complementary guard border on red ground. Rec'd—November 11, 2007; Est. Value—$500.00; Location—To be retained for official display | 5 U.S.C. 7342(f)(4) | Non-acceptance would cause embarrassment to donor and U.S. Government.
An Agency Employee | Silk rug, 4 feet 10 inches by 3 feet 2 inches, ivory ground with palmette and trellising vine field centering a pulled star medallion on light rust ground, floral spray and ivory spandrels, complementary guard border on red ground. Rec'd—November 11, 2007; Est. Value—$500.00; Location—To be retained for official display | 5 U.S.C. 7342(f)(4) | Non-acceptance would cause embarrassment to donor and U.S. Government.

Agency: Committee on Standards of Official Conduct
[Report of tangible gifts]
Name and title of person accepting the gift on behalf of the U.S. Government | Gift, date of acceptance on behalf of the U.S. Government, estimated value, and current disposition or location | Identity of foreign donor and government | Circumstances justifying acceptance
The Honorable Nancy Pelosi, Speaker of the U.S. House of Representatives | One framed, colored-glass and stone painting. Rec'd—June 21, 2007; Est. Value—$350.00; Location—Office of the Clerk | His Excellency Nguyen Minh Triet, President of the Socialist Republic of Vietnam | Non-acceptance would cause embarrassment to donor and U.S. Government.

Agency: Defense Intelligence Agency
[Report of tangible gifts]
Name and title of person accepting the gift on behalf of the U.S. Government | Gift, date of acceptance on behalf of the U.S. Government, estimated value, and current disposition or location | Identity of foreign donor and government | Circumstances justifying acceptance
Colonel Robert Rosedale, Defense Attache, Saudi Arabia | Mont Blanc pen. Rec'd—August 26, 2007; Est. Value—$570.00; Location—Defense Intelligence Agency General Counsel's Office | Major General Abdul-Rahman Al-Marshed, Minister of Defense and Aviation Chief of Intelligence & Security (J2), Saudi Arabia | Non-acceptance would cause embarrassment to donor and U.S. Government.
Lieutenant Colonel Robert Friedenberg, Defense Attache Kuwait | Aigner watch. Rec'd—June 2007; Est. Value—$521; Location—Pending transfer to GSA | Mr. Abdal Rahman Had-Hood, the Chief, Analysis Branch, Kuwait Department of Military Intelligence and Security, State of Kuwait | Non-acceptance would cause embarrassment to donor and U.S. Government.

Agency: Department of Agriculture
[Report of tangible gifts]
Name and title of person accepting the gift on behalf of the U.S. Government | Gift, date of acceptance on behalf of the U.S. Government, estimated value, and current disposition or location | Identity of foreign donor and government | Circumstances justifying acceptance
Mike Johanns, U.S. Secretary of Agriculture | A jar of Caspian Caviar Sevruga Malossol 300 grams net wt 10.58 oz. approx. Rec'd—28-Feb-07; Est. Value—$535.00; Location—The caviar was returned to Secretary on 3/7/2007, but later destroyed due to spoilage | His Excellency Kanat B. Saudabayev, Ambassador of Republic of Kazakhstan, Embassy of Republic of Kazakhstan | Non-acceptance would cause embarrassment to donor and U.S. Government.

Agency: Department of Army
[Report of tangible gifts]
Name and title of person accepting the gift on behalf of the U.S. Government | Gift, date of acceptance on behalf of the U.S. Government, estimated value, and current disposition or location | Identity of foreign donor and government | Circumstances justifying acceptance
Brigadier General Daniel P. Bolger, Joint Readiness Training Center, Fort Polk, Louisiana | Necklace with green beads and gold plated earrings. Rec'd—27-Apr-07; Est. Value—$305; Disposition—Transferred to General Services Administration August 16, 2007 | Mrs. Gloria Rodriguez de Moreno, Wife of Vice Commander of the Columbian Military Forces | Non-acceptance would cause embarrassment to donor and U.S. Government.
Major General Ann E. Dunwoody, Command General, Military Traffic Management Command, Headquarters | Necklace Gold w/Earring & Ring ($5,000). Rec'd—12-Apr-07; Est. Value—$5,000; Disposition—Transferred to General Services Administration | Dr. Sheikh al Jaber Ali al Sabah, Kuwait Port Authority, State of Kuwait | Non-acceptance would cause embarrassment to donor and U.S. Government.
Major General Ann E. Dunwoody, Command General, Military Traffic Management Command, Headquarters | Gold Necklace ($3,000). Rec'd—12-Apr-07; Est. Value—$3,000; Disposition—Pending Transfer to General Services Administration | Dr. Sheikh al Jaber Ali al Sabah, Kuwait Port Authority, State of Kuwait | Non-acceptance would cause embarrassment to donor and U.S. Government.
Brigadier General Barbara Doornink, Deputy Commanding General, Military Traffic Management Command, Headquarters | Gold Bracelet with Ring ($3,000). Rec'd—12-Apr-07; Est. Value—$3,000; Disposition—Transferred to General Services Administration | Dr. Sheikh al Jaber Ali al Sabah, Kuwait Port Authority, State of Kuwait | Non-acceptance would cause embarrassment to donor and U.S. Government.
Lieutenant General Joseph Peterson, Chief of Staff/Deputy Commanding General | 22K Gold Rope Chain ($180); 22K Gold Link Chain ($80); Gold Pendant of Iraq ($115); Gold Pendant of Iraq w/ Blue & White ($115); Gold Pendant of Iraqi coin ($119); Gold Ring with clear stones ($1,200). Rec'd—27-Apr-07; Est. Value—$1,809; Disposition—Transferred to General Services Administration August 16, 2007 | His Excellency Falah Hassan, Ministry of Interior, Republic of Iraq | Non-acceptance would cause embarrassment to donor and U.S. Government.
Colonel Victoria A. Leignadier, Commander 598th Transportation Group | Mont Blanc Watch ($1,000). Rec'd—12-Apr-07; Est. Value—$1,000; Disposition—Transferred to General Services Administration | Dr. Sheikh al Jaber Ali al Sabah, Kuwait Port Authority, State of Kuwait | Non-acceptance would cause embarrassment to donor and U.S. Government.
Major Kathryn Spletstoser, Assistant Division Commander, Military Traffic Management Command, Headquarters | Pendant Flag Sterling Silver ($3,000). Rec'd—12-Apr-07; Est. Value—$3,000; Disposition—Transferred to General Services Administration | Dr. Sheikh al Jaber Ali al Sabah, Kuwait Port Authority, State of Kuwait | Non-acceptance would cause embarrassment to donor and U.S. Government.
Lieutenant Colonel James D. Hess, Commander 325th Brigade Support Battalion | Men's Quartz Watch ($666). Rec'd—14-Mar-07; Est. Value—$666; Disposition—Transferred to General Services Administration | Brigadier General Yunis, Commander, Garrison Support, Republic of Iraq | Non-acceptance would cause embarrassment to donor and U.S. Government.

Agency: Department of Commerce
[Report of tangible gifts]
Name and title of person accepting the gift on behalf of the U.S. Government | Gift, date of acceptance on behalf of the U.S. Government, estimated value, and current disposition or location | Identity of foreign donor and government | Circumstances justifying acceptance
Carlos M. Gutierrez, Secretary of Commerce | A 14½-inch vase made of blue malachite stone, gilded interior. Rec'd—20-Aug-07; Est. Value—$350.00; Location—In storage at Department of Commerce | Dr. Mir Muhammad Amin Farhang, Afghan Minister of Commerce | Non-acceptance would cause embarrassment to donor and U.S. Government.

Agency: Department of Defense
[Report of tangible gifts]
Name and title of person accepting the gift on behalf of the U.S. Government | Gift, date of acceptance on behalf of the U.S. Government, estimated value, and current disposition or location | Identity of foreign donor and government | Circumstances justifying acceptance
The Honorable Robert Gates, Secretary of Defense | Photo album #203d Barcode 992925D—photo album having blue fabric hard cover marked “with the compliments of the Ministry of National Defense, PR China”, containing 37 polychrome photos of Robert Gates plus Chinese males, in fabric-covered sleeve with same “compliments”. Rec'd—11/05/2007; Est. Value—$100.00; Location—Pending transfer to GSA | His Excellency General Cao Gangchaun, Minister of Defense, China | Non-acceptance would cause embarrassment to donor and U.S. Government.
The Honorable Robert Gates, Secretary of Defense | Book—The Palace Museum #203e Barcode 992925E—hardcover, red fabric cover, “The Palace Museum Edited by the Palace Museum” [ISBN 978-7-80047-621-1]. Rec'd—11/05/2007; Est. Value—$85.00; Location—Pending transfer to GSA | His Excellency General Cao Gangchaun, Minister of Defense, China | Non-acceptance would cause embarrassment to donor and U.S. Government.
The Honorable Robert Gates, Secretary of Defense | Parque Forestal Painting—DB #171a—Barcode 992867B. Rec'd—10/04/2007; Est. Value—$330.00; Location—Pending transfer to GSA | His Excellency Jose Goni Carrasco, Minister of Defense, Chile | Non-acceptance would cause embarrassment to donor and U.S. Government.
The Honorable Robert Gates, Secretary of Defense | Book—Art of Birds—#171b—Barcode 992867B. Rec'd—10/04/2007; Est. Value—$30.00; Location—Pending transfer to GSA | His Excellency Jose Goni Carrasco, Minister of Defense, Chile | Non-acceptance would cause embarrassment to donor and U.S. Government.
The Honorable Robert Gates, Secretary of Defense | DVD—The Palace Museum #203f barcode 992925F—DVD/videotape by China International TV Corporation [www.CCTV-YX.com], labeled “CCTV—International Edition”. Rec'd—11/05/2007; Est. Value—$40.00; Location—Pending transfer to GSA | His Excellency General Cao Gangchaun, Minister of Defense, China | Non-acceptance would cause embarrassment to donor and U.S. Government.
General Peter Pace, Chairman of the Joint Chiefs of Staff | Knife with leather sheath—Barcode 992597—reticulated steel blade depicting brasstone cross, brasstone arrow, silvertone ship, signed with limited edition no. 02/14, in carved wood handle displaying curves, in brown leather sheath with brasstone cleat; in presentation box with presentation tag. Rec'd—12/06/2002; Est. Value—$365.00; Location—Pending transfer to GSA | Vice Admiral Tarmo Kouts, Chief of Defense Estonia | Non-acceptance would cause embarrassment to donor and U.S. Government.
General Peter Pace, Chairman of the Joint Chiefs of Staff | Artwork, set of three framed reliefs, sences of Warsaw—Barcode 992600—3 plaque, each an embossed silver rectangle stamped “925” (indicating sterling grade) plus gilt highlights, in mat and printed wood grain frame, in presentation box with presentation tag to Peter Pace. The scenes are historic places in Warsaw, Poland. Rec'd—09/21/2006; Est. Value—$365.00; Location—Pending transfer to GSA | General Franciszek Gagor, Chief of Defense, Poland | Non-acceptance would cause embarrassment to donor and U.S. Government.
General Peter Pace, Chairman of the Joint Chiefs of Staff | Artwork, elephant with three riders—Barcode 992601—handpainted ink and color, of 3 males on an elephant dressed in ornaments, including tiny apparent rubies and emeralds, signed “Badu Lal Maroha”, in green silk mat and molded goldtone frame with foliated design, 15½″ h × 13¼″ w. Rec'd—06/05/2006; Est. Value—$440.00; Location—Pending transfer to GSA | Air Marshal Ajit Bhavanami, Vice Chief of the Air Staff, India | Non-acceptance would cause embarrassment to donor and U.S. Government.
General Peter Pace, Chairman of the Joint Chiefs of Staff | Wood plaque with brass eagle inscribed “Armada de Mexico”—Barcode 992627A—rectangular silver plaque stamped “sterling 925” in bottom right corner, displaying Mexican and U.S. flags at top over engraved dedication to Peter Pace from Marco Gonzales, affixed to wood back. Rec'd—11/02/2006; Est. Value—$100.00; Location—Pending transfer to GSA | Admiral Marco Peytro Gonzalez, Secretary of the Navy, Mexico | Non-acceptance would cause embarrassment to donor and U.S. Government.
General Peter Pace, Chairman of the Joint Chiefs of Staff | Wood plaque with flags of Mexico and USA (damage; missing piece from center of plaque)—Barcode 992627B—shield shape, painted black, fronted by brass castings of ribbon marked “ARMADA DE MEXICO” over bird with snake in beak over crossed anchors, over laurel leaf crescent, over presentation tag to Peter Pace from Mexico Secretary of the Navy. Rec'd—11/02/2006; Est. Value—$425.00; Location—Pending transfer to GSA | Admiral Marco Peytro Gonzalez, Secretary of the Navy, Mexico | Non-acceptance would cause embarrassment to donor and U.S. Government.
General Peter Pace, Chairman of the Joint Chiefs of Staff | Saber, engraved “General Peter Pace” Barcode 992635—steel blade with foliate designs on both sides marked “Carl Eickhorn Solingen”, in black plastic handgrip wrapped in spiral twist wire with silvertone reticulated hand guard including lion head at top with ruby-colored glass eyes, in silvertone scabbard script engraved “General Peter Pace”, plus goldtone tassel, in carrying box. Rec'd—03/14/2002; Est. Value—$650.00; Location—Pending transfer to GSA | General of the Army Mihail Popescu, Chief of Defense, Romania | Non-acceptance would cause embarrassment to donor and U.S. Government.
General Peter Pace, Chairman of the Joint Chiefs of Staff | Women's wristwatch with pink leather band and multi-colored stones around the face—Barcode 992641A—MW, having round mother-of-pearl face with numerals 1, 3, 4, 5, 7, 8, 9, 11, 12, 3 dials at 2/6/10 o'clock positions within silvertone case ornamented with flowers having amber/green/red/clear stones, case back marked MW04A13 and AE00337855, lizard leather band stained pink, buckle stamped “MW” in blue leather box. Rec'd—12/28/2005; Est. Value—$1,040.00; Location—Pending transfer to GSA | General Hamad Bin Ali Al-Attiyah, Chief of Defense of Qatar, Romania | Non-acceptance would cause embarrassment to donor and U.S. Government.
General Peter Pace, Chairman of the Joint Chiefs of Staff | Men's wristwatch, Du Centaur, black face with black leather band—Barcode 992641B black face marked “DU CENTAURE” and genoa assymetric spinnaker”, having dial above 6 o'clock position and second dial near 9/10 o'clock, simulated diamonds within zigzag around chapter ring, 4 more outside bezel, case back marked “Alpha du Centaure”, black leather strap, in highly polished lidded wood presentation box. Rec'd—12/28/2005; Est. Value—$2,200.00; Location—Pending transfer to GSA | General Hamad Bin Ali Al-Attiyah, Chief of Defense of Qatar, Romania | Non-acceptance would cause embarrassment to donor and U.S. Government.
General Peter Pace, Chairman of the Joint Chiefs of Staff | Necklace—small pearls—Barcode 992641C—oval frash water pearls strung on unknotted cord, terminating in gold hook, 17″l, in red leather case marked “Tiaral, Doha-Qatar”. Rec'd—12/28/2005; Est. Value—$1,112.00; Location—Pending transfer to GSA | General Hamad Bin Ali Al-Attiyah, Chief of Defense of Qatar, Romania | Non-acceptance would cause embarrassment to donor and U.S. Government.
The Honorable Robert Gates, Secretary of Defense | Wood chess set #121a—Barcode 992767A—game box, stamped inside “KURDISTANSANANDAJ”, being a hinged box, the outside convex walls with incarved rosettes and foliage, encompassing inset of 2-tone marquetry chess playing board, the box opening to disclose veneer work and game board plus dice plus wood playing pieces for chess and checkers, 21¼″ square, in custom-made zippered green nylon carrying bag. Rec'd—06/16/2007; Est. Value—$365.00; Location—Pending transfer to GSA | His Excellency President Jalal Talibani, President of Iraq | Non-acceptance would cause embarrassment to donor and U.S. Government.
The Honorable Robert Gates, Secretary of Defense | Rug—#121b Barcode 992767B—Rec'd—06/16/2007; Est. Value—$165.00; Location—Pending transfer to GSA | His Excellency President Jalal Talibani, President of Iraq | Non-acceptance would cause embarrassment to donor and U.S. Government.
The Honorable Robert Gates, Secretary of Defense | Rug—121c Barcode 992767C. Rec'd—06/16/2007; Est. Value—$165.00; Location—Pending transfer to GSA | His Excellency President Jalal Talibani, President of Iraq | Non-acceptance would cause embarrassment to donor and U.S. Government.
The Honorable Robert Gates, Secretary of Defense | Statue of Gold Falcon #135 Barcode 992796—Rec'd—07/31/2007; Est. Value—$3,000.00; Location—Pending transfer to GSA | His Excellency King Abdullah, Saudi Arabia | Non-acceptance would cause embarrassment to donor and U.S. Government.
General Peter Pace, Chairman of the Joint Chiefs of Staff | M900 Machine Gun, mounted in wood and glass case—Barcode 992815—Calico M-900, serial #E005385, set in wood brackets against red fabric background with 2 brass tags in Spanish, one stating that this firearm was used August 02, 2006 near Santo Domingo [Colombia] by anti-narcotics troops, other being a presentation tag to Peter Pace dated January 2007, in wood presentation box with glazed lid and gadrooned bottom edge, 5″h x 32¾″ w x 12½″d. Note glued/repaired break in inside curve of butt. Rec'd—01/20/2007; Est. Value—$650.00; Location—Pending transfer to GSA | Admiral David Moreno, Chief of Defense, Colombia | Non-acceptance would cause embarrassment to donor and U.S. Government.
General Peter Pace, Chairman of the Joint Chiefs of Staff | Machine gun, 9mm with removable magazine Barcode 992818—with removable curved magazine, painted black, top of barrel marked “C 1944 MX 115”, with attached green woven cotton shoulder strap including brown leather buckles. Rec'd—11/03/2006; Est. Value—$650.00; Location—Pending transfer to GSA | General of the Army, Yurly Niklayevich Baluyevskiy, Chief of Defense, Russia | Non-acceptance would cause embarrassment to donor and U.S. Government.
Nathan Bein, Action Officer, European and NATO Policy | Cigarette lighter—Barcode 992820—marked “T. Dupont Paris” and “Made in France/Laque de Chine/4FKO1J28”, goldtone, top/bottom and hinge edge of high polish without decoration, ridged turning cylinder friction, mat machine-turned straited elsewhere. Rec'd—05/01/2007; Est. Value—$345.00; Location—Pending transfer to GSA | Lieutenant General Jovan Lakcevic, Chief of Staff, Montenegro | Non-acceptance would cause embarrassment to donor and U.S. Government.
The Honorable Robert Gates, Secretary of Defense | Painting of the Secretary of Defense Robert Gates—#178—Barcode 992874—oil on wood roundel, portrait of Robert Gates, wearing burgundy necktie, white shirt, blue jacket, signed/dated “Erwin 07” along lower right side, 20″ diameter, mounted on with fabric-covered masonsie, in wood frame. Rec'd—10/06/2007; Est. Value—$900.00; Location—Pending transfer to GSA | Ivan C. Fernald, Minister of Defense, Suriname | Non-acceptance would cause embarrassment to donor and U.S. Government.
The Honorable Robert Gates, Secretary of Defense | Wood Sculpture—#175 Barcode 992876—Makonde-style openwork mahogany carving of holes and “C” curves, some simulating faces/eyes, 19″h x 15″, pivoting on domed wood based, 7″h x 10″d, base incised “J.U.06” and with affixed title tag “Power of Positive Thinking” over presentation tag to Robert Gates from Suriname President. Rec'd—10/06/2007; Est. Value—$1,200.00; Location—Pending transfer to GSA | President Runaldo Ronald Venetiaan, Suriname | Non-acceptance would cause embarrassment to donor and U.S. Government.
James Clad, Deputy Assistant Secretary of Defense, South & South East Asia | Black elephant with silver costume wear in a case Barcode 992879—carved wood, apparently ebony, ornamented in silver with applied silver rosettes, plus 26 real purplish red faceted gemstones, including 6 on petal ends of canopy over rosewater sprinkler on pedestal on elephant's back, 5½″h x 4¾″l x 2¼″w, set into purple velor-type stand with presentation tag from General Fonseka of Sri Lanka, in plexiglass case. Rec'd—10/16/2007; Est. Value—$370.00; Location—Pending transfer to GSA | Lieutenant General GSC Fonseka, Commander of the Sri Lanka Army | Non-acceptance would cause embarrassment to donor and U.S. Government.
The Honorable Robert Gates, Secretary of Defense | Rug—60″ x 74″ #186 Barcode 992899—Rec'd—10/18/2007; Est. Value—$900.00; Location—Pending transfer to GSA | His Excellency Abdul Rahim Wardak, Minister of Defense of the Islamic Republic of Afghanistan | Non-acceptance would cause embarrassment to donor and U.S. Government.
The Honorable Robert Gates, Secretary of Defense | Large Green Vase #204 Barcode 992911—crackle glaze celadon, slightly tapered cylinder with wide flaring rim and no neck, front displaying black tiger stripe cat with raised in serpentine and hook shape, 2 columns of black calligraphy on left plus 2 red chop marks, 11¼″h x 8¼″d, plus wood stand, in wood box. Rec'd—11/07/2007; Est. Value—$345.00; Location—Pending transfer to GSA | His Excellency Kim Jang-Soo, Minister of National Defense, South Korea | Non-acceptance would cause embarrassment to donor and U.S. Government.
The Honorable Robert Gates, Secretary of Defense | Blue and white large vase—#203a Barcode 992925A—Chinese, ceramic, baluster-shape with lip over narrow short neck, indigo on white, displaying chrysanthemums among leaves on curving vines bounded by band of leaf tips, shoulder band of demilune florets and lappets, bottom band of floral panel, 16½″h x 9½″d, on wood stand, in presentation box. Rec'd—11/05/2007; Est. Value—$380.00; Location—Pending transfer to GSA | His Excellency General Cao Gangchaun, Minister of Defense, China | Non-acceptance would cause embarrassment to donor and U.S. Government.
The Honorable Robert Gates, Secretary of Defense | Blue and white large vase—#203b Barcode 992925B—Chinese, ceramic, baluster-shape with lip over narrow short neck, indigo on white, displaying chrysanthemums among leaves on curving vines bounded by band of leaf tips, shoulder band of demilune florets and lappets, bottom band of floral panel, 16½″h x 9½″d, on wood stand, in presentation box. Rec'd—11/05/2007; Est. Value—$380.00; Location—Pending transfer to GSA | His Excellency General Cao Gangchaun, Minister of Defense, China | Non-acceptance would cause embarrassment to donor and U.S. Government.
The Honorable Robert Gates, Secretary of Defense | Secretary of Defense Robert Gates painted inside a glass globe—#203c Barcode 992925C—sphere, clear crystal, 5½″d, interior spherical cavity handpainted on one side with portrait image of white-haired male (Robert Gates) wearing dark necktie, white shirt, dark suit jacket, other side depicting portion of the Great Wall of China bordered by autumnal foliage, on footed wood stand dedicated to Robert Gates dated November 2007, in presentation box. Rec'd—11/05/2007; Est. Value—$800.00; Location—Pending transfer to GSA | His Excellency General Cao Gangchaun, Minister of Defense, China | Non-acceptance would cause embarrassment to donor and U.S. Government.
The Honorable Robert Gates, Secretary of Defense | Country Plaque—DB#022a Barcode 992369A, brass tone roundel displaying dagger and crossed rifles over row of 4 stars over presenter name, all affixed to wood board with metal foot, in presentation box. Rec'd—01/17/2007; Est. Value—$125.00; Location—Pending transfer to GSA | His Excellency Abdul Rahim Wardak, Minister of National Defense of the Islamic Republic of Afghanistan | Non-acceptance would cause embarrassment to donor and U.S. Government.
The Honorable Robert Gates, Secretary of Defense | Afghan Rug—DB#022b Barcode 992369B—wool pile, hand woven, featuring 2 rows of 6 medallions each in rust/indigo/tan, on tan field alternating with “X” motif, surrounded by 5 primary borders of which the third displays “fleches” (arrowheads), end panels friezes, 53″ x 82″ pile area, excluding fringe. Rec'd—01/17/2007; Est. Value—$400.00; Location—Pending transfer to GSA | His Excellency Abdul Rahim Wardak, Minister of National Defense of the Islamic Republic of Afghanistan | Non-acceptance would cause embarrassment to donor and U.S. Government.
The Honorable Robert Gates, Secretary of Defense | Gold Jambaya—DB# 023 Barcode 992370—Jambaya (knife with curved blade in waisted handle) the gold-tone handle displaying rosettes of spiral twist wire, 7 diamond shapes on handle end, 10¾″ 1, in gold-tone elbow-shape sheath displaying scrollwork upper panel, spiral twist wrapping, white leather backing, plus rings. Both handle and sheath stamped “875” (indicating 21K gold) both handle and sheath also stamped “AL-MANNAI”. In presentation box with Bahraini emblem and presentation plaque from King of Bahrain to Robert Gates. Rec'd—01/17/2007; Est. Value—$3,200.00; Location—Pending transfer to GSA | His Excellency King Abdullah bin Abdul al-Saud, Bahrain | Non-acceptance would cause embarrassment to donor and U.S. Government.
The Honorable Robert Gates, Secretary of Defense | Decorative Silver Plate #026a Barcode 992372 round porcelain plate stamped on back “Kutahya Hand Made 2002 Hatice Ar.” Front displaying Turkish military emblem in red surrounded by silver-tone Scrollwork and blue rimmed marked “Ministry of National Defense”, the plate mounted in silver-tone surround with repoussé floral band, 15½″ h, in presentation box with dedication plaque. Rec'd—01/26/2007; Est. Value—$210.00; Location—Pending transfer to GSA | His Excellency Vecdi Gonul, Minister of National Defense, Turkey | Non-acceptance would cause embarrassment to donor and U.S. Government.
The Honorable Robert Gates, Secretary of Defense | Silver Candle Stick Holders #026b Barcode 992372B pair of sterling silver candlesticks, bottom interior of socket stamped “DAMAR 925”, each stick having bobeche over cylindrical socket over waisted section, over tapered cylinder, over ring, over domed foot with repoussé lobes and applied two flowers and 6 leaves, 7¾″h x 3⅝″d in presentation box. Rec'd—01/26/2007; Est. Value—$240.00; Location—Pending transfer to GSA | His Excellency Vecdi Gonul, Minister of National Defense, Turkey | Non-acceptance would cause embarrassment to donor and U.S. Government.
The Honorable Robert Gates, Secretary of Defense | Silver Vase #026c Barcode 992372C vase, Sterling silver (bottom stamped “SAMI 925”), having 4-lobed rim with applied foliate scrollwork, waisted neck, inverse baluster shape baluster with 4 repoussé floral cartouches, flaring foot, 10″h x 5¼″d, in presentation box. Rec'd—01/26/2007; Est. Value—$290.00; Location—Pending transfer to GSA | His Excellency Vecdi Gonul, Minister of National Defense, Turkey | Non-acceptance would cause embarrassment to donor and U.S. Government.
The Honorable Robert Gates, Secretary of Defense | Rug—#031 Barcode 992376 Rug, Afghani, wool pile, hand-woven, 18 x 20 = 360 knots per square inch, displaying 30 rows of Tekke-style octagonal gul in white/red/black alternating with rows of crosses with flaring ends, on wine white red field, surrounded by 29 borders including 4 forms with white outline, 120″ x 150″ pile area excluding fringe. Rec'd—12/29/2006; Est. Value—$5,600.00; Location—Pending transfer to GSA | His Excellency Hamid Karzi, President of the Islamic Republic of Afghanistan | Non-acceptance would cause embarrassment to donor and U.S. Government.
The Honorable Gordon England, Deputy Secretary of Defense | Silver Vase #D093 Barcode 992377 Vase, sterling silver, bottom stamped “SAMI 925” plus 5-pointed star, all within circle, baluster shape, flaring rim of 4 propellers-blade shape lobes over waisted neck, over spherical body with repoussé drapery garlands and 4 applied ribbon bows, 7¾″ h x 5″ in presentation box. Rec'd—02/02/2007; Est. Value—$420.00; Location—Pending transfer to GSA | His Excellency Vecdi Gonul, Minister of National Defense, Turkey | Non-acceptance would cause embarrassment to donor and U.S. Government.
Admiral Edmund P. Giambastiani, Vice Chairman Joint Chiefs of Staff | Afghan hand woven rug Barcode 992383 Rug, Afghani, wood pile, hand-woven, 10 x 12 = 120 knots per square inch, displaying 2 rows of 7 octagonal guls each, each gul consisting of bars/triangles/trapezoids/hooks in red/indigo/pumpkin/ivory, alternating with rows of smaller asterisk-shape gul on indigo line, on tan field surrounded by 5 major borders, of which the third predominates in arrow heads (“flechettes”) on ivory, 52″ x 79″ pile area, excluding kilim ends and fringe. Rec'd—02/04/2007; Est. Value—$400.00; Location—Pending transfer to GSA | His Excellency Abdul Rahim Wardak, Minister of Defense of the Islamic Republic of Afghanistan, Kabul, Afghanistan | Non-acceptance would cause embarrassment to donor and U.S. Government.
The Honorable Robert Gates, Secretary of Defense | Jewelry box #042 Barcode 992395 Box, Korean, rectangular, entire outside displaying elaborate mother-of-pearl inlay in lacquer, lid with 4-lobed center cartouche of birds in water, outside walls of ducks or flying birds, black interior with lift out tray, slightly hyper-extending base frame, 6″h x 10¾″l w x 14⅜″d. Note presentation plaque inside lid. Rec'd—02/23/2007; Est. Value—$390.00; Location—Pending transfer to GSA | His Excellency Jang Soo Kim, Minister of Defense, Republic of Korea | Non-acceptance would cause embarrassment to donor and U.S. Government.
Daniel Fata, Deputy Assistant Secretary of Defense, European and NATO Policy | Book—about the history of the Montenegrin Army Barcode 992482F—hardcover “The Montenegrin Army” by Tatjana Jovic and Milan Jovicevic. Rec'd—03/29/2007; Est. Value—$45.00; Location—Pending transfer to GSA | His Excellency Lazar Elenovski, Minister of Defense, Macedonia | Non-acceptance would cause embarrassment to donor and U.S. Government.
Daniel Fata, Deputy Assistant Secretary of Defense, European and NATO Policy | Book—about the Montenegrin sovereign defense posture—Barcode 992482G—hardcover, “Five Years Sovereign Defence of the Republic of Macedonia”. Rec'd—03/29/2007; Est. Value—$25.00; Location—Pending transfer to GSA | His Excellency Lazar Elenovski, Minister of Defense, Macedonia | Non-acceptance would cause embarrassment to donor and U.S. Government.
Lieutenant General William M. Frazier III, Assistant to the Chairman of the Joint Chiefs of Staff | Men's steel Concord watch Barcode 992408—Wristwatch, Concord, Men's LaScala, no.1316531, truncated ellipsoid engine-turned face with numeral 12, wedges indicating 1, 4-8, 11 o'clock, dials at 2 o'clock and 10 o'clock positions, third band; in kidskin-lined presentation box. Rec'd—03/06/2007; Est. Value—$2,800.00; Location—Pending transfer to GSA | His Excellency King Abdullah bin Abdul-Aziz al-Saud, Saudi Arabia | Non-acceptance would cause embarrassment to donor and U.S. Government.
Peter Rodman, Assistant Secretary of Defense for International Security Affairs | Jordanian Ceremonial Sword Barcode 992430—Saber, steel blade with acid-etched foliate scroll designs, gold-tone (apparently gold-plated) hilt as continuous “C” curve with stamped roundel of crown over crossed sabers, flanked by scrollwork, leather handgrip, knob over oval cap end, 36½″l in leather clad sheath with apparent brass and gold-plated mounts; in handled carrying case with presentation plaque. Rec'd—11/07/2006; Est. Value—$485.00; Location—Pending transfer to GSA | General Khalid Al Sarayreh, Chairman of the Joint Chief of Staff, Jordan Armed Forces | Non-acceptance would cause embarrassment to donor and U.S. Government.
The Honorable Robert Gates, Secretary of Defense | Glass Bowl DB #051 Barcode 992445—Pedestal bowl, Czech, ruby glass over clear glass, by Egermann. Limited edition 16/30, designed by Stephan Benec, accompanied by edition no. 9805/29/28867, having 10 scalloped lobes over 5 oval medallion scenes of castle/stag/horse/stag/bird alternating with floral groups, one band of dots and foot of similar designs, script signed “S Benec” on foot, 10″h x 11⅜″. Rec'd—03/09/2007; Est. Value—$1,500.00; Location—Pending transfer to GSA | His Excellency Vaclav Klaus, President, Czech Republic | Non-acceptance would cause embarrassment to donor and U.S. Government.
The Honorable Kenneth J. Krieg, Under Secretary of Defense, Acquisition, Technology and Logistics presented to Mrs. Anne Krieg | Ladies Fila Ski Jacket and Pant Barcode 992457A—consisting of white zippered turtleneck-style jacket with black band around each upper arm, size M, plus black pants size M. Rec'd—02/10/2007; Est. Value—$165.00; Location—Pending transfer to GSA | Lieutenant General Gianni Botondi, Secretary General of Defense and National Armaments, Director, Rome, Italy | Non-acceptance would cause embarrassment to donor and U.S. Government.
The Honorable Kenneth J. Krieg, Under Secretary of Defense, Acquisition, Technology and Logistics | Men's Fila Ski Jacket and Pant Barcode 992457B—consisting of blue zippered turtleneck-style jacket with white band on zippered chest pocket, plus blue hood, size L, plus black pants, size L. Rec'd—02/10/2007; Est. Value—$190.00; Location—Pending transfer to GSA | Lieutenant General Gianni Botondi, Secretary General of Defense and National Armaments, Director, Rome, Italy | Non-acceptance would cause embarrassment to donor and U.S. Government.
The Honorable Robert Gates, Secretary of Defense | Rug—DB#069a BC 992463A—Egyptian, polished cotton, 24 x 22 = 528 knots per square inch, displaying rectilinear crescent/rosette/diamonds in turquoise/pink/burgundy on black field surrounded by 5 primary border of which the third predominates in rosettes with scrollwork square within brackets on burgundy, 50″ x 32″, excluding fringe. Rec'd—04/18/2007; Est. Value—$350.00; Location—Pending transfer to GSA | Field Marshal Hussein Tantawy, Minister of Defense of Egypt | Non-acceptance would cause embarrassment to donor and U.S. Government.
The Honorable Robert Gates, Secretary of Defense | Gold Statue of the Combat Chariot DB#069b Barcode 992463B—gold tone cast metal chariot with rider holding spear, pulled by prancing horse with plumed mane, 7½″h x 11½w x 4″d, affixed to black rectangular base with plaque “Combat chariot” and presentation tag plus plexiglass cover. Rec'd—04/18/2007; Est. Value—$240.00; Location—Pending transfer to GSA | Field Marshal Hussein Tantawy, Minister of Defense of Egypt | Non-acceptance would cause embarrassment to donor and U.S. Government.
Honorable Robert Gates, Secretary of Defense | Gold Bracelet DB #069c Barcode 992463C—consisting of 8 yellow gold oviods stamped ″ ″ in Arabic (indicating 18K gold), each with 3 dimensional scarab beetle having body of turquoise or lapis lazuli, terminating in round pressure clasp ring. Rec'd—04/18/2007; Est. Value—$290.00; Location—Pending transfer to GSA | Field Marshal Hussein Tantawy, Minister of Defense of Egypt | Non-acceptance would cause embarrassment to donor and U.S. Government.
The Honorable Robert Gates, Secretary of Defense | Country Plaque—DB#069d Barcode 992463D—rectangular silver tone, with affixed brass roundel “Egyptian Armed Forces” on right, red/white/black enamel banner in middle, and brass tone chariot/horses on left. Rec'd—04/18/2007; Est. Value—$85.00; Location—Pending transfer to GSA | Field Marshal Hussein Tantawy, Minister of Defense of Egypt | Non-acceptance would cause embarrassment to donor and U.S. Government.
The Honorable Robert Gates, Secretary of Defense | Dagger #073 Barcode 992470—having curved ribbed steel blade secured in waisted black wood handle with inset silvertone reticulate crown on each side, 12¼″l, in black leatherclad sheath with silvertone mounts, in leather presentation case. Rec'd—04/17/2007; Est. Value—$345.00; Location—Pending transfer to GSA | His Majesty King Abdullah bin-al Hussein, Jordan | Non-acceptance would cause embarrassment to donor and U.S. Government.
John Hill, Principal Director, Asian Pacific Security Affairs, East Asia | Green and Gold Vase Barcode 992480—Taiwanese, ceramic, ovoid, having goldtone rim/waisted neck/shoulder, plus goldtone leaves/flowers against green background, 15½″ h x 6½″ d, accompanied by carved round wood stand; in presentation box. Artist listed Chao-chung Hsu, an award winning Taiwanese artist. Rec'd—03/23/2007; Est. Value—$380.00; Location—Pending transfer to GSA | Jye Lee, Minister of Defense, Taiwan | Non-acceptance would cause embarrassment to donor and U.S. Government.
Mary Beth Long, Acting Assistant Secretary of Defense for International Affairs | Wooden Chess Set Barcode 992481—Game box, interior marked “Kurdastan-Sanandaj”, marquetry of multipke types of wood, having ridge lined playing board for chess/checkers, outside edge of incarved rosettes/leaves, 21½″ square, plus turned wood playing pieces; in green nylon zippered carrying bag. Rec'd—04/20/2007; Est. Value—$365.00; Location—Pending transfer to GSA | President Jalal Talibani, President of Iraq | Non-acceptance would cause embarrassment to donor and U.S. Government.
Daniel Fata, Deputy Assistant Secretary of Defense, European and NATO Policy | Pearl Necklace Barcode 992482A—jewelry set consisting of necklace of graduated round faux pearls known as “Ohrid Pearls” made by the Talev Family of Macedonia, plus pair of earrings, each with on similar faux pearl on hook. Rec'd—03/29/2007; Est. Value—$90.00; Location—Pending transfer to GSA | His Excellency Lazar Elenovski, Minister of Defense, Macedonia | Non-acceptance would cause embarrassment to donor and U.S. Government.
Daniel Fata, Deputy Assistant Secretary of Defense, European and NATO Policy | Photo book—about the best attractions in Montenegro—Barcode 992482H—hardcover, “Montenegro”. Rec'd—03/29/2007; Est. Value—$55.00; Location—Pending transfer to GSA | His Excellency Lazar Elenovski, Minister of Defense, Macedonia | Non-acceptance would cause embarrassment to donor and U.S. Government.
The Honorable Robert Gates, Secretary of Defense | Jewelry box #083a Barcode 992492A—rectangular, black lacquer, lid displaying prunus blossoms and maple leaves in 3 goldtone/purple/pink rectangles. Rec'd—04/30/2007; Est. Value—$265.00; Location—Pending transfer to GSA | His Excellency Kyuma, Minister of Defense, Japan | Non-acceptance would cause embarrassment to donor and U.S. Government.
The Honorable Robert Gates, Secretary of Defense | Baseabll bat signed by a NY Yankee #083b Barcode 992492B—“Mizuno Pro Matsui”, written dedication “To Robert Michael Gates/Secretary of Defence”. Rec'd—04/30/2007; Est. Value—$125.00; Location—Pending transfer to GSA | His Excellency Kyuma, Minister of Defense, Japan | Non-acceptance would cause embarrassment to donor and U.S. Government.
Daniel Fata, Deputy Assistant Secretary of Defense, European and NATO Policy | Pencil and Pen Set inscribed with “Parliament, Republic of Montenegro” Barcode 992482B—the fountain pen with nib marked “Huahoug 22KGP”, in presentation box including presentation tag inside lid. Rec'd—03/29/2007; Est. Value—$55.00; Location—Pending transfer to GSA | His Excellency Lazar Elenovski, Minister of Defense, Macedonia | Non-acceptance would cause embarrassment to donor and U.S. Government.
Daniel Fata, Deputy Assistant Secretary of Defense, European and NATO Policy | Organizer and notebook 9¾″ x 7½″ with small Montenegrin seal Barcode 992482C—notebook with black leather binding stamped in goldtone “Parliament of the Republic of Montenegro” surmounted by goldtone plastic crowned double eagle, accompanied by attached red/gold marking ribbon. Rec'd—03/29/2007; Est. Value—$100.00; Location—Pending transfer to GSA | His Excellency Lazar Elenovski, Minister of Defense, Macedonia | Non-acceptance would cause embarrassment to donor and U.S. Government.
Daniel Fata, Deputy Assistant Secretary of Defense, European and NATO Policy | Traditional Montenegrin black and red cloth hat, embroidered Montenegrin seal on the top Barcode 992482D—hat black, round, fabric, top goldtone crowned double-headed eagle against red background, 2¾″ h x 7½″ d. Rec'd—03/29/2007; Est. Value—$35.00; Location—Pending transfer to GSA | His Excellency Lazar Elenovski, Minister of Defense, Macedonia | Non-acceptance would cause embarrassment to donor and U.S. Government.
Daniel Fata, Deputy Assistant Secretary of Defense, European and NATO Policy | Gold Mask, flat sheet Barcode 992482E—goldtone mask having band of square bracket scrolls on the face with ellipsoid eyes, bar mouth, flanked by spiral bands, in frame made by Anastas Dudan. Rec'd—03/29/2007; Est. Value—$90.00; Location—Pending transfer to GSA | His Excellency Lazar Elenovski, Minister of Defense, Macedonia | Non-acceptance would cause embarrassment to donor and U.S. Government.
The Honorable Robert Gates, Secretary of Defense | Silver Ceremonial Sword #085 Barcode 992494—Jambaya, curved polished metal blade with center ridge, secured in silver filigree with 3 round carnelian cabochons, 27″ l, in presentation box. Rec'd—05/01/2007; Est. Value—$490.00; Location—Pending transfer to GSA | His Excellency Saleh, President, Yemen | Non-acceptance would cause embarrassment to donor and U.S. Government.
The Honorable Robert Gates, Secretary of Defense | Wooden Chess Set #077 BC#992504—light wood stained dark including high relief carving of rosettes and leaves on sides, plus polished marquetry playing board, opening to disclose light color and dark-stained playing pieces for chess and backgammon/checkers; in zippered cusom fitted green nylon bag. Rec'd—04/20/2007; Est. Value—$325.00; Location—Pending transfer to GSA | President Jalal Talibani, President of Iraq | Non-acceptance would cause embarrassment to donor and U.S. Government.
Lieutenant General Jeffrey B. Kohler, Executive Officer, Defense Security Cooperation Agency | Men's Concord Impressario Watch Barcode 992505—round white face with date window at 3 o'clock position, VI/IX/XII Roman numerals, silvertone flex band. Rec'd—02/19/2007; Est. Value—$2,800.00; Location—Pending transfer to GSA | Major General Duaij Salman Al Khalifa, Country Unknown | Non-acceptance would cause embarrassment to donor and U.S. Government.
The Honorable Robert Gates, Secretary of Defense | Rug—#113 Barcode 992508—wool pile, handwoven featuring square flanked by triangles of fleur-de-lys plus “C” curves in black/brown/brown/red/tan, surrounded by 2 borders of similar design in red on white and black on red. Rec'd—06/05/2007; Est. Value—$1,100.00; Location—Pending transfer to GSA | General Lieutenant Ismail Isakovich Isakov, Minister of Defense, Kyrgyzstan | Non-acceptance would cause embarrassment to donor and U.S. Government.
The Honorable Robert Gates, Secretary of Defense | Rug—#111 Bacode 992523—wool pile, hand woven, field displaying triangles surrounded by 11 borders, all in brown/beige/blue, 62″ x 71″, excluding fringe. Rec'd—06/04/2007; Est. Value—$350.00; Location—Pending transfer to GSA | His Excellency Abdul Rahim Wardak, Minister of Defense of the Islamic Republic of Afghanistan | Non-acceptance would cause embarrassment to donor and U.S. Government.
General Peter Pace, Chairman of the Joint Chiefs of Staff | Plaque—Barcode 992528A—plaque, wood rectangle fronted by brasstone emblem of dagger/crossed anchor/wings over presentation tag to Peter Pace from Bulgarian General Stoykov; leatherclad presentation box. Rec'd—04/05/2007; Est. Value—$35.00; Location—Pending transfer to GSA | General Zlatan Stoykov, Chief of Defense of Bulgaria | Non-acceptance would cause embarrassment to donor and U.S. Government.
General Peter Pace, Chairman of the Joint Chiefs of Staff | Dagger—Barcode 992528B—steel blade engraved “ALAT II Y ECT” flanked by foliate arabesques, secured in ivory-color plastic handle spiral wrapped in brass twined metal, handle end of cross over crown having 8 bars, bottom end of handle of reticulated brass band over hilt of rampant lion on one side. Rec'd—04/05/2007; Est. Value—$365.00; Location—Pending transfer to GSA | General Zlatan Stoykov, Chief of Defense of Bulgaria | Non-acceptance would cause embarrassment to donor and U.S. Government.
General Peter Pace, Chairman of the Joint Chiefs of Staff | Pen Set silver, pens shaped like feathers—Barcode 992585A—desk set stamped “925” (indicating sterling silver), consisting of rectangular ink stand on toed feet with wings, concave wells, top with domed inkwell including reticulated scrollwork flanked by flower bud holders, each holding feather-shaped plume, 8″l, the stand 6″ h x 8″ w x 4½″ w; in hinged lid wood presentation box. Rec'd—03/24/2006; Est. Value—$465.00; Location—Pending transfer to GSA | General Ilker Basbug, Commander, Turkish 1st Army, Turkey | Non-acceptance would cause embarrassment to donor and U.S. Government.
General Peter Pace, Chairman of the Joint Chiefs of Staff | Wooden Plaque with relief of Turkish fortress—Barcode 992585B—plaque pressboard stained as walnut fronted by cast resin relief scene of a quadrate fortress with quadrate tower at each corner in foreground, numerous buildings across the water in the background, over presentation tag to Pace from Basbug, 9″h x 10⅝″w; in presentation box. Rec'd—03/24/2006; Est. Value—$65.00; Location—Pending transfer to GSA | General Ilker Basbug, Commander, Turkish 1st Army, Turkey | Non-acceptance would cause embarrassment to donor and U.S. Government.
General Peter Pace, Chairman of the Joint Chiefs of Staff | Pen set silver inkwell Barcode 992586—inkstand, sterling silver, rectanglar based on 4 splayed bracket feet, supporting 2 pen cup holders, each with fountain pen having German nib and silver shank, flanking quadrate clear crystal inwkwell with hinge dome lid with rosette on cap; 7½″w x 4½″d; in presentation box, with presentation tag from Buyukanit of Turkey. Rec'd—02/15/2007; Est. Value—$565.00; Location—Pending transfer to GSA | General Yasar Buyukanit, Chief of Defense, Turkey | Non-acceptance would cause embarrassment to donor and U.S. Government.

Agency: Department of Education
[Report of tangible gifts]
Name and title of person accepting the gift on behalf of the U.S. Government | Gift, date of acceptance on behalf of the U.S. Government, estimated value, and current disposition or location | Identity of foreign donor and government | Circumstances justifying acceptance
Margaret Spellings, Secretary of Education | Holiday gift basket from Neiman Marcus (“Pasta Gift Basket”). Rec'd—14-Dec-07; Est. Value—$348.00; Location—Disposition: To Department of Education kitchen for use at official Department events (Cathy del Duca) | His Excellency Saqr Ghobash, Ambassador of the United Arab Emirates | Non-acceptance would cause embarrassment to donor and U.S. Government.

Agency: Department of Navy
[Report of tangible gifts]
Name and title of person accepting the gift on behalf of the U.S. Government | Gift, date of acceptance on behalf of the U.S. Government, estimated value, and current disposition or location | Identity of foreign donor and government | Circumstances justifying acceptance
Admiral Gary Roughead, Chief of Naval Operations | 1914 British Enfield Rifle & magazine. Rec'd—27-Oct-07; Est. Value—$500.00; Location—Being retained by CNO for display | Rear Admiral Muhammad Jawad Leader, Iraqi Navy | Non-acceptance would cause embarrassment to donor and U.S. Government.
Admiral Michael G. Mullen and Spouse, Chief of Naval Operations | Large ornate wooden chest, ornate blue and white floral vase and ornate fabric. Rec'd—16-Apr-07; Est. Value—$460.00; Location—Being retained at CNO (DNS 35) pending transfer to GSA | Admiral M Azfal Tahir Ni(M), Chief of Naval Staff, Pakistan | Non-acceptance would cause embarrassment to donor and U.S. Government.
Admiral Michael G. Mullen, Chief of Naval Operations | Singapore Skycrapers—etched wood art. Rec'd—24-Jul-07; Est. Value—$390.00; Location—Being retained at CNO (DNS 35) pending transfer to GSA | Rear Admiral Ronnie Tay, Chief of Navy, Singapore | Non-acceptance would cause embarrassment to donor and U.S. Government.
Admiral Michael G. Mullen and Spouse, Chief of Naval Operations | 1. Vel Statue of St. George slaying the dragon; 2. Jewelry box with Russian building painted on it; 3. Russian Ladies Bracelet. Rec'd—24-Aug-07; Est. Value—$406.00; Location—Being retained at CNO (DNS 35) pending transfer to GSA | Fleet Admiral Vladimir Vasilyevich Masorin, Commander in Chief Russian Federation Navy | Non-acceptance would cause embarrassment to donor and U.S. Government.
Admiral Michael G. Mullen, Chief of Naval Operations | Book of engravings “Piraeus and Ports of Mediterranean Sea”. Rec'd—15-May-07; Est. Value—$979.00; Location—Being retained at CNO (DNS 35) pending transfer to GSA | Admiral Panagiotis Chinofotis, Chief Helenic National Defense General Staff | Non-acceptance would cause embarrassment to donor and U.S. Government.
Admiral Michael G. Mullen, Chief of Naval Operations | “The Art of War”—Gold Edition Book. Rec'd—16-Aug-07; Est. Value—$1,708.00; Location—Being retained at CNO (DNS 35) pending transfer to GSA | Admiral Xu Commander, Shanghai Naval Base | Non-acceptance would cause embarrassment to donor and U.S. Government.
Admiral Michael G. Mullen, Chief of Naval Operations | Two Kagame crystal wine glasses. Rec'd—2-Nov-06; Est. Value—$312.00; Disposition—Transferred to General Services Administration | Admiral Eiji Yoshikawa, Chief of Staff, Japanese Maritime Self Defense Force Japan | Non-acceptance would cause embarrassment to donor and U.S. Government.
Admiral Michael G. Mullen, Chief of Naval Operations | 1. 12″ Sword in black velour box; 2. Book—“Bulgaria Illustrated History”. Rec'd—9-Nov-06; Est. Value—$322.00; Disposition—Transferred to General Services Administration | Rear Admiral Minko Kavaldzhiev, Commander in Chief, Bulgarian Navy | Non-acceptance would cause embarrassment to donor and U.S. Government.
Rear Admiral Nevin P. Carr DIR, Navy International Programs Office | Men's quartz watch. Rec'd—17-Nov-07; Est. Value—$325.00; Location—Being retained by DIR, IPO for official use pending purchase | Rear Admiral Fhd Ahmed Al-Kayyal CDR, Royal Saudi Naval Forces Eastern Fleet Command | Non-acceptance would cause embarrassment to donor and U.S. Government.
Vice Admiral Mark J. Edwards, Chief of Naval Operations Communication Networks | New Zealand Navy picture. Rec'd—27-May-07; Est. Value—$600.00; Location—Being retained by CNO Communications Networks for official use | Commodore David Anson, Royal New Zealand Navy | Non-acceptance would cause embarrassment to donor and U.S. Government.
Rear Admiral James D. Kelly, COMNAVFORJAPAN | Hand engraved sword. Rec'd—16-Feb-07; Est. Value—$9,167.00; Location—Being retained by COMNAVFORJAPAN for official use | Master Sword Engraver Yanigamura | Non-acceptance would cause embarrassment to donor and U.S. Government.
Rear Admiral Allen G. Meyers CDR, Carrier Strike Group EIGHT | 1. Gold and pearl bracelet; 2. Gold and green slippers; 3. Black sheer overgown with pouch 4. perfume in pouch 5. One turquoise and one tan cloth 6. Sheer black and pink table cloth 7. “Welcome to Kuwait—A Visitor's Guide and “Kuwait Traditions—Creative Expressions of Culture” books. Rec'd—18-Dec-06; Est. Value—$804.00; Disposition—Transferred to General Services Administration | Waleed Fahel Al-Fadhel Ministry of Awqaf, Assistant Undersecretary for Cultural Affairs | Non-acceptance would cause embarrassment to donor and U.S. Government.
Rear Admiral Allen G. Meyers CDR, Carrier Strike Group EIGHT | 1. Gold and pearl bracelet; 2. Gold and green slippers; 3. Black sheer overgown with pouch 4. perfume in pouch 5. One turquoise and one tan cloth 6. Sheer black and pink table cloth 7. “Welcome to Kuwait—A Visitor's Guide and “Kuwait Traditions—Creative Expressions of Culture” books. Rec'd—18-Dec-06; Est. Value—$804.00; Disposition—Transferred to General Services Administration | Waleed Fahel Al-Fadhel Ministry of Awqaf, Assistant Undersecretary for Cultural Affairs | Non-acceptance would cause embarrassment to donor and U.S. Government.

Agency: Department of Navy
[Report of Travel]
Name and title of person accepting the gift on behalf of the U.S. Government | Gift, date of acceptance on behalf of the U.S. Government, estimated value, and current disposition or location | Identity of foreign donor and government | Circumstances justifying acceptance
Admiral Henry G. Ulrich Commander U.S. Naval Forces Europe/Commander, Allied Joint Forces Command, Naple and six accompanying staff members | Expended for hotels and meals. Rec'd—April 17-18, 2007; Est. Value—$2,315.46 | Admiral Panagiotis Chinifotis, Chief Hellenic National Defense General Staff | Non-acceptance would cause embarrassment to donor and U.S. Government.
Rear Admiral Jeffrey L. Fowler Commander Submarine Group EIGHT and four accompanying staff members | Expended for hotels and meals. Rec'd—January 21-25, 2007; Est. Value—$2,729.00 | Rear Admiral Sedger Dulger, COMSUBTURGROUP Rear Admiral Celal Parlakoglu, COMTURNAVAKBASE and Rear Admiral Bulent Bostanoglu COMTURFLEET | Non-acceptance would cause embarrassment to donor and U.S. Government.
Rear Admiral Jeffrey L. Fowler Commander Submarine Group EIGHT and four accompanying staff members | Expended for hotels and meals. Rec'd—March 14-15, 2007; Est. Value—$1,668.00 | Captain Eutihios Nikolidakis, COMHELSUB | Non-acceptance would cause embarrassment to donor and U.S. Government.
Rear Admiral Jeffrey L. Fowler Commander Submarine Group EIGHT and four accompanying staff members | Expended for hotels and meals. Rec'd—March 14-15, 2007; Est. Value—$1,668.00 | Captain Eutihios Nikolidakis, COMHELSUB | Non-acceptance would cause embarrassment to donor and U.S. Government.

Agency: Department of the Air Force
[Report of tangible gifts]
Name and title of person accepting the gift on behalf of the U.S. Government | Gift, date of acceptance on behalf of the U.S. Government, estimated value, and current disposition or location | Identity of foreign donor and government | Circumstances justifying acceptance
Brigadier General Daniel P. Woodward, Director of Regional Affairs | Rolex Watch, Oyster Perpetual Date, Submariner. Rec'd—May 5, 2007; Est. Value—$5,490.00; Disposition—Transferred to GSA on December 13, 2007 | Mohammed Abdullah al-Ayeeshe, Major General, Deputy Commander, Royal Saudi Air Force, Riyadh, Kingdom of Saudi Arabia | Non-acceptance would cause embarrassment to donor and U.S. Government.
Colonel William G. Hampton, Chief, Gulf Cooperation Council Division | Hugo Watch, Metropolis Initial Stainless Steel. Rec'd—May 14, 2007; Est. Value—$678.67; Disposition—Transferred to GSA on December 13, 2007 | Mohammed Abdullah al-Ayeeshe, Major General, Deputy Commander, Royal Saudi Air Force, Riyadh, Kingdom of Saudi Arabia | Non-acceptance would cause embarrassment to donor and U.S. Government.
Major James Fisher Saudi Arabia Country Director | Hugo Watch, Metropolis Initial Stainless Steel. Rec'd—May 14, 2007; Est. Value—$678.67; Disposition—Transferred to GSA on December 13, 2007 | Mohammed Abdullah al-Ayeeshe, Major General, Deputy Commander, Royal Saudi Air Force, Riyadh, Kingdom of Saudi Arabia | Non-acceptance would cause embarrassment to donor and U.S. Government.
Lieutenant General Gary L. North, Commander, United States Central Air Force Command | Raymond Weil Watch. Rec'd—May 1, 2007; Est. Value—$1,083.00; Disposition—Pending transfer to GSA | Colonel Mahash Saeed Salem Al Hamel. Chief of Security and Chief of the Unmanned Aeriel Vehicles Operations Division | Non-acceptance would cause embarrassment to donor and U.S. Government.
Colonel Gregory A. Kerns, Previous Commander, 380th Air Expeditionary Wing | Ladies Chessica Square Watch; Gents Chessica Square Watch; Gents Ambassadeur Watch. Rec'd—5 June, 2007; Est. Value—$1,602.35; Disposition—Transferred to GSA on December 13, 2007 | Colonel Mahash Saeed Salem Al Hamel. Chief of Security and Chief of the Unmanned Aeriel Vehicles Operations Division | Non-acceptance would cause embarrassment to donor and U.S. Government.
Colonel Gregory A. Kerns, Previous Commander, 380th Air Expeditionary Wing | Isfahan Rug. Rec'd—5 June, 2007; Est. Value—$893.00; Location—Rug is displayed at the Al Dhafra Air Base Chapel for official use | Colonel Mahash Saeed Salem Al Hamel. Chief of Security and Chief of the Unmanned Aeriel Vehicles Operations Division | Non-acceptance would cause embarrassment to donor and U.S. Government.
Lieutenant Colonel Scott H. Remington, Individual Mobilization Augmentee to the Director, Air Force Office of Special Investigations | Longines Watch, La Grande Classique. Rec'd—5 June, 2007; Est. Value—$437.50; Location—Recipient purchased watch through GSA | Lieutenant Colonel Rezgar Barzani of Iraq, Kurdistand Regional Government, Parastin Intelligence Service | Non-acceptance would cause embarrassment to donor and U.S. Government.
Colonel Michael G. Cosby, 363 Training Commander | Breitling Professional B-1 Gentleman's Watch. Rec'd—28 June, 2007; Est. Value—$2,919.00; Disposition—Pending transfer to GSA | Major General Mohammed Sowaidan Al-Gimzy, United Arab Emirates Air Force Chief of Staff | Non-acceptance would cause embarrassment to donor and U.S. Government.
Brigadier General Mark Solo, Chief, Office of Military Cooperation—Kuwait | Panasonic Lumix DMC-FX9 Digital Camera. Rec'd—6 May, 2007; Est. Value—$398.00; Location—Camera will be utilized at the command for official use | Lieutenant General Fahed Al-Amir, Chief of Staff, Kuwait Armed Forces, State of Kuwait | Non-acceptance would cause embarrassment to donor and U.S. Government.
Brigadier General Mark Solo, Chief, Office of Military Cooperation—Kuwait | Kuwait Tea Set. Rec'd—6 May, 2007; Est. Value—$42.00; Disposition—Transferred to GSA on December 13, 2007 | Lieutenant General Fahed Al-Amir, Chief of Staff, Kuwait Armed Forces, State of Kuwait | Non-acceptance would cause embarrassment to donor and U.S. Government.
Colonel Cassandra R. Salvatore, 376 Expeditionary Medical Group, Kyrgyz Republic | Large painting of a Kyrgyz mountain scene. Rec'd—8 November, 2007; Est. Value—$305.00; Location—Picture is displayed at the Manas Air Base Medical Treatment Facility | Dr. Sabyrek Djumabekov, Chief of Orthopaedy and Traumatology, Kyrgyz Medical Academy, Kyrgyz Republic | Non-acceptance would cause embarrassment to donor and U.S. Government.
Mr. Bruce Lemkin, Deputy Under Secretary of the Air Force, International Affairs | Concord Saratoga Chronograph Men's Watch. Rec'd—11 November, 2007; Est. Value—$1,076.00; Disposition—Pending transfer to GSA | Brigadier Mubarak Mohammed Al Kuwait Al Kharayin, Qatari Air Chief, State of Qatar | Non-acceptance would cause embarrassment to donor and U.S. Government.

Agency: Department of the Interior
[Report of tangible gifts]
Name and title of person accepting the gift on behalf of the U.S. Government | Gift, date of acceptance on behalf of the U.S. Government, estimated value, and current disposition or location | Identity of foreign donor and government | Circumstances justifying acceptance
Honorable Dirk Kempthorne, Secretary, U.S. Department of the Interior | Glass Art. Rec'd—7-May-07; Est. Value—$750.00; Location—Disposition—on display, Secretary's Immediate Office for Official Use | Lord Major Campbell Newman, Government Official from Brisbane, Australia | Non-acceptance would cause embarrassment to donor and U.S. Government.
Kathryn Washburn, Secretary's Immediate Office | Pearl Necklace. Rec'd—30-Jan-07; Est. Value—$644.00; Location—General Services Administration, Forestall Vault, GE-233 | Minister Sun Wensheng, Chinese Minister of Land and Resources | Non-acceptance would cause embarrassment to donor and U.S. Government.

Agency: Department of the Treasury
[Report of tangible gifts]
Name and title of person accepting the gift on behalf of the U.S. Government | Gift, date of acceptance on behalf of the U.S. Government, estimated value, and current disposition or location | Identity of foreign donor and government | Circumstances justifying acceptance
Henry M. Paulson, Jr., Secretary of Treasury | Green leather-covered Bernard-Richards desk clock. Rec'd—20-Sep-07; Est. Value—332.29; Location—Treasury retained for Official Use on October 9, 2007 | His Excellency Nicolas Sarkozy, President of the French Republic | Non-acceptance would cause embarrassment to donor and U.S. Government.
Robert M. Kimmitt, Deputy Secretary | Three Commemorative Medallions (gold, silver, bronze) of Prime Minister Rafic Harri. Rec'd—11-Oct-07; Est. Value—765.26; Location—Treasury retained for Official Use on November 8, 2007 | His Excellency Saad Hariri, Member of Parliament of the Republic of Lebanon | Non-acceptance would cause embarrassment to donor and U.S. Government.

Agency: Office of the Director of National Intelligence
[Report of tangible gifts]
Name and title of person accepting the gift on behalf of the U.S. Government | Gift, date of acceptance on behalf of the U.S. Government, estimated value, and current disposition or location | Identity of foreign donor and government | Circumstances justifying acceptance
5 U.S.C. § 7342(f)(4), as amended | Rug—5′ × 3′ silk on silk, ivory field with round doubly terminated medallion and floral & fliate scrolling, tan astragals, six borders with rust main, Pakistan, 20th/21st century. Rec'd—11-Mar-07; Est. Value—$750; Disposition—for Official Use | 5 U.S.C. § 7342(f)(4), as amended | Non-acceptance would cause embarrassment to donor and U.S. Government.

Agency: U.S. Environmental Protection Agency
[Report of Travel]
Name and title of person accepting the gift on behalf of the U.S. Government | Gift, date of acceptance on behalf of the U.S. Government, estimated value, and current disposition or location | Identity of foreign donor and government | Circumstances justifying acceptance
Philip Berger, Hydrologist, Office of Ground Water and Drinking Water | Transportation to and from DC to Prague, Brno and Lednice, Czech Republic; meals and accommodation in Lednice, Czech Republic. Rec'd—April 30 to May 10, 2007; Est. Value—$1,200.00 | Professor Petr Hlavinek, Brno University of Technology, via a grant from North Atlantic Treaty Organization | Non-acceptance would cause embarrassment to donor and U.S. Government.
Anna Coutlakis, Senior Policy Advisor, Office of Pollution Prevention, Pesticides and Toxics | Standard single room for three nights at the Jiuhua Resort and Convention Center, Beijing ChangPing Xiao Tang. Rec'd—December 11 to 13, 2007; Est. Value—$279.69 | Honorable Nei Jinglie, Chinese State Environmental Protection Agency | Non-acceptance would cause embarrassment to donor and U.S. Government.
Anna Coutlakis, Senior Policy Advisor, Office of Pollution Prevention, Pesticides and Toxics | Shuttle service to and from Beijing Airport. Rec'd—December 11 to 13, 2007; Est. Value—$50.00 | Honorable Nei Jinglie, Chinese State Environmental Protection Agency | Non-acceptance would cause embarrassment to donor and U.S. Government.
Vince Nabholz, Senior Biologist, Office of Pollution Prevention, Pesticides and Toxics Substances | Standard single room for three nights at the Jiuhua Resort and Convention Center, Beijing ChangPing Xiao Tang. Rec'd—December 11 to 13, 2007; Est. Value—$279.69 | Honorable Nei Jinglie, Chinese State Environmental Protection Agency | Non-acceptance would cause embarrassment to donor and U.S. Government.
Vince Nabholz, Senior Biologist, Office of Pollution Prevention, Pesticides and Toxics Substances | Shuttle service to and from Beijing Airport. Rec'd—December 11 to 13, 2007; Est. Value—$50.00 | Honorable Nei Jinglie, Chinese State Environmental Protection Agency | Non-acceptance would cause embarrassment to donor and U.S. Government.
Hugh Barton, Toxicologist | Travelers cheques to cover cost of 2.5 days of lodging, meals and per diem. Rec'd—November 5 to 7, 2007; Est. Value—$1100 | World Health Organization | Non-acceptance would cause embarrassment to donor and U.S. Government.
Sarah Froman, Presidential Management Fellow, Office of Air and Radiation | Airfare and lodging for four trips as part of Presidential Management Intern Fellowship detail to Environmental Protection Agency Victoria in Melbourne, Australia. Rec'd—March 8 to 9, 2007; Est. Value—$415.00 | Honorable Terry A'Hearn, Director, Sustainability Directorate, Environment Protection Authority of Victoria, Australia | Non-acceptance would cause embarrassment to donor and U.S. Government.
Sarah Froman, Presidential Management Fellow, Office of Air and Radiation | Airfare and lodging for four trips as part of Presidential Management Intern Fellowship detail to Environmental Protection Agency Victoria in Melbourne, Australia. Rec'd—April 3 to 5, 2007; Est. Value—$509.00 | Honorable Terry A'Hearn, Director, Sustainability Directorate, Environment Protection Authority of Victoria, Australia | Non-acceptance would cause embarrassment to donor and U.S. Government.
Sarah Froman, Presidential Management Fellow, Office of Air and Radiation | Airfare and lodging for four trips as part of Presidential Management Intern Fellowship detail to Environmental Protection Agency Victoria in Melbourne, Australia. Rec'd—June 3 to 6, 2007; Est. Value—$395.00 | Honorable Terry A'Hearn, Director, Sustainability Directorate, Environment Protection Authority of Victoria, Australia | Non-acceptance would cause embarrassment to donor and U.S. Government.
Kirsten Cappel, Environmental Protection Specialist, Office of Air and Radiation | Meals, local transportation, airport tax, other incidentals. Rec'd—May 21 to 25, 2007; Est. Value—$444.00 | United Nations Environment Programme | Non-acceptance would cause embarrassment to donor and U.S. Government.
Michael Brody, Senior Environmental Scientist, Office of the Chief Financial Officer | Airfare to and from Ukraine, transportation within Ukraine, hotels and meals. Rec'd—June 2 to 10, 2007; Est. Value—$5,137.00 | World Bank | Non-acceptance would cause embarrassment to donor and U.S. Government.
Chao Chen, Biostatistician, ORD | Airfare, hotel, meals. Rec'd—May 22 to 25, 2007; Est. Value—$2,721.00 | North Atlantic Treaty Organization | Non-acceptance would cause embarrassment to donor and U.S. Government.

[FR Doc. E8-29759 Filed 12-19-08; 8:45 am]

BILLING CODE 4710-20-P